FEDERAL COMMUNICATIONS COMMISSION

47 CFR Part 1

[MD Docket No. 09-65; MD Docket No. 08-65; FCC 09-62]

Assessment and Collection of Regulatory Fees for Fiscal Year 2009

AGENCY: Federal Communications Commission.

ACTION: Final rule.

SUMMARY: In this document, we amend our Schedule of Regulatory Fees to collect $341,875,000 in regulatory fees for Fiscal Year (FY) 2009, pursuant to section 9 of the Communications Act of 1934, as amended (the Act). These fees are mandated by Congress and are collected to recover the regulatory costs associated with the Commission's enforcement, policy and rulemaking, user information, and international activities.

DATES: Effective September 10, 2009.

FOR FURTHER INFORMATION CONTACT: Daniel Daly, Office of Managing Director at (202) 418-1832, or Roland Helvajian, Office of Managing Director at (202) 418-0444.

SUPPLEMENTARY INFORMATION:

I. Introduction

1. In this Report and Order we conclude the Assessment and Collection of Regulatory Fees for Fiscal Year (FY) 2009 proceeding ¹ to collect $341,875,000 in regulatory fees for FY 2009, pursuant to section 9 of the Communications Act of 1934, as amended (the Act). Section 9 regulatory fees are mandated by Congress and are collected to recover the regulatory costs associated with the Commission's enforcement, policy and rulemaking, user information, and international activities.² The annual regulatory fee amount to be collected is established each year in the Commission's annual appropriations act which is adopted by Congress and signed by the President and which funds the Commission.³ In this annual regulatory fee proceeding, we retain many of the established methods, policies, and procedures for collecting section 9 regulatory fees adopted by the Commission in prior years. Consistent with our established practice, we intend to collect these regulatory fees during a filing window in September 2009 in order to collect the required amount by the end of our fiscal year.

¹ See Assessment and Collection of Regulatory Fees for Fiscal Year 2009, MD Docket No. 09-65, Notice of Proposed Rulemaking and Order, 24 FCC Rcd 5966 (2009) (FY 2009 NPRM and Order).

² 47 U.S.C. 159(a).

³ See Omnibus Appropriations Act, 2009, P.L. 111-8, for the FY 2009 appropriations act language for the Commission establishing the amount of $341,875,000 of offsetting collections to be assessed and collected by the Commission pursuant to section 9 of the Communications Act.

II. Report and Order

2. On May 14, 2009, we released a Notice of Proposed Rulemaking and Order (FY 2009 NPRM and Order, 74 FR 26329, June 2, 2009) seeking comment on regulatory fee issues for FY 2009.⁴ The section 9 regulatory fee proceeding is an annual rulemaking process to ensure the Commission collects the fee amount required by Congress each year. In the FY 2009 NPRM and Order, we proposed to largely retain the section 9 regulatory fee methodology used in the prior fiscal year except as discussed below. We received nine comments and two reply comments.⁵ We address the issues raised in our FY 2009 NPRM and Order below.

⁴ See FY 2009 NPRM and Order.

⁵ See Appendix A for the list of commenters and abbreviated names.

A. FY 2009 Regulatory Fee Assessment Methodology—Development of FY 2009 Regulatory Fees

3. We note at the outset that in the context of their comments on the FY 2009 regulatory fee proceeding, commenters ⁶ discussed the Commission's Further Notice of Proposed Rulemaking, which accompanied the FY 2008 regulatory fee Report and Order (FY 2008 Report and Order, 73 FR 50285, August 26, 2008).⁷ Through that proceeding the Commission sought comment on how it could comprehensively make the Commission's regulatory fee process more equitable.⁸ In the FY 2009 NPRM and Order, we adopted two proposals raised in the Further Notice of Proposed Rulemaking in the FY 2008 Report and Order.⁹ The other outstanding matters stemming from the Further Notice of Proposed Rulemaking in the FY 2008 Report and Order will be decided at a later time in a separate Report and Order.¹⁰

⁶ See comments from American Association of Paging Carriers (AAPC); Coalition of Canadian-Based Service Providers (Coalition); Independent Telephone and Telecommunications Alliance (ITTA); and United States Telecom Association (USTelecom).

⁷ See Assessment and Collection of Regulatory Fees for Fiscal Year 2008, MD Docket No. 08-65, Report and Order and Further Notice of Proposed Rulemaking, 24 FCC Rcd 6389 (2008) (FY 2008 Report and Order).

⁸ FY 2008 Report and Order at paragraph 2.

⁹ FY 2009 NPRM and Order at paragraphs 2-5; FY 2008 Report and Order at paragraphs 55 and 56.

¹⁰ In an effort to explore how the Commission could comprehensively make the regulatory fee process more equitable, the Commission sought and received comments during FY 2008 about the regulatory fee process, the calculation of regulatory fees, and issues relating to specific categories of fees. FY 2008 Report and Order at paragraphs 25-58. The comprehensive regulatory fee revision issues raised in the FY 2008 Further Notice of Proposed Rulemaking remain outstanding at this time.

4. In our FY 2009 regulatory fee assessment, we will use the same section 9 regulatory fee assessment methodology adopted for FY 2008. Each fiscal year, the Commission proportionally allocates the total amount that must be collected via section 9 regulatory fees. The results of our FY 2009 regulatory fee assessment methodology (including a comparison to the prior year's results) are contained in Appendix B. To collect the $341,875,000 required by Congress, we adjust the FY 2008 amount upward by approximately 9.6 percent and allocate this amount across the various fee categories. Consistent with past practice, we then divide the FY 2009 amount by the number of payment units in each fee category to determine the unit fee.¹¹ As in prior years, for cases involving small fees, e.g., licenses that are renewed over a multiyear term, we divide the resulting unit fee by the term of the license and then round these unit fees consistent with the requirements of section 9(b)(2) of the Act.

¹¹ In many instances, the regulatory fee amount is a flat fee per licensee or regulatee. In some instances, the fee amount represents a per-unit fee (such as for International Bearer Circuits), a per-unit subscriber fee (such as for Cable, Commercial Mobile Radio Service (CMRS) Cellular/Mobile and CMRS Messaging), or a fee factor per revenue dollar (Interstate Telecommunications Service Provider (ITSP) fee). The payment unit is the measure upon which the fee is based, such as a licensee, regulatee, or subscriber fee.

5. In calculating the FY 2009 regulatory fees listed in Appendix C, we further adjusted the FY 2008 list of payment units (see Appendix D) based upon licensee databases and industry and trade group projections. In some instances, Commission licensee databases were used; in other instances, actual prior year payment records and/or industry and trade association projections were used in determining the payment unit counts.¹² Where appropriate, we adjusted and rounded our final estimates to take into consideration events that may impact the number of units for which regulatees submit payment, such as waivers and exemptions that may be filed in FY 2009, and fluctuations in the number of licensees or station operators due to economic, technical, or other reasons. Therefore, our estimated FY 2009 payment units are based on FY 2008 actual payment units, but the number may have been rounded or adjusted slightly to account for these variables.

¹² The databases we consulted are the following: the Commission's Universal Licensing System (ULS), International Bureau Filing System (IBFS), Consolidated Database System (CDBS) and Cable Operations and Licensing System (COALS). We also consulted industry sources including, but not limited to, Television & Cable Factbook by Warren Publishing, Inc. and the Broadcasting and Cable Yearbook by Reed Elsevier, Inc., as well as reports generated within the Commission such as the Wireline Competition Bureau's Trends in Telephone Service and the Wireless Telecommunications Bureau's Numbering Resource Utilization Forecast and Annual CMRS Competition Report.

1. AM and FM Radio Stations

6. As in previous years, we consider additional factors in determining regulatory fees for AM and FM radio stations. We did not receive any comments on the use of these factors. These factors are facility attributes and the population served by the radio station. The calculation of the population served is determined by coupling current U.S. Census Bureau data with technical and engineering data, as detailed in Appendix E. Consequently, the population served, as well as the class and type of service (AM or FM), will continue to determine the regulatory fee amount to be paid.¹³

¹³ In addition, beginning in FY 2005, we established a procedure by which we set regulatory fees for AM and FM radio and VHF and UHF television Construction Permits each year at an amount no higher than the lowest regulatory fee in that respective service category. For example, the regulatory fee for a Construction Permit for an AM radio station will never be more than the regulatory fee for an AM Class C radio station serving a population of less than 25,000.

2. Submarine Cable Methodology

7. In a Second Report and Order (Submarine Cable Order, 24 FCC Rcd) released on March 24, 2009, the Commission adopted a new submarine cable bearer circuit methodology that assessed regulatory fees on a per cable landing license basis, with higher fees for larger submarine cable systems and lower fees for smaller systems, without distinguishing between common carriers and non-common carriers.¹⁴ For the other categories of international bearer circuits—common carrier and non-common carrier satellite facilities and common carrier terrestrial facilities—the Submarine Cable Order retained the existing regulatory fee methodology of assessing fees on a per 64 kbps circuit basis.

¹⁴ See Assessment and Collection of Regulatory Fees for Fiscal Year 2008, Second Report and Order, 24 FCC Rcd 4208, paragraph 1 (May 12, 2009) (Submarine Cable Order).

8. By way of brief background, in the proposed fee rates for submarine cable systems in the FY 2009 NPRM and Order,¹⁵ the Commission allocated the total FY 2009 bearer circuit expected revenue into two revenue components: a submarine cable revenue component (87.6 percent) and a satellite/terrestrial revenue component (12.4 percent) using the Consensus Proposal allocation adopted by the Commission in the Submarine Cable Order.¹⁶ According to the Consensus Proposal, this allocation of 87.6 percent (submarine cable) and 12.4 percent (satellite/terrestrial) was calculated by determining the revenue obligations of submarine cable systems with the revenue obligations of the satellite and terrestrial facilities using the FY 2008 revenue requirement as its basis.¹⁷ For calculating these new bearer circuit fees, we will use these allocation percentages of 87.6 percent (submarine cable) and 12.4 percent (satellite and terrestrial) as a starting point. Consistent with the Commission's annual process of updating its schedule of regulatory fees based on the most recent data, we will re-examine the allocation percentages described above on an annual basis as the starting point for applying the new submarine cable methodology.

¹⁵ See FY 2009 NPRM and Order at Appendix A.

¹⁶ See Submarine Cable Order at paragraphs 1 and 6.

¹⁷ Id. at 6.

9. After the adoption of the Submarine Cable Order, the Commission notified Congress on April 15, 2009 per section 9(b)(4)(B) of the Communications Act of the methodology change.¹⁸ The pending 90-day congressional notification period expired on July 15, 2009. The new bearer circuit methodology is effective. The FY 2009 regulatory fee rates for submarine cable systems included in the FY 2009 Schedule of Regulatory Fees in Appendix C reflect the Commission's adoption of the methodology in the Submarine Cable Order.

¹⁸ 47 U.S.C. 159(b)(4)(B); Letter concerning permitted amendment from Office of Managing Director, Federal Communications Commission to Chair and Ranking Members of U.S. House of Representatives' Committees on Energy and Commerce and Appropriations and applicable Subcommittees and to Chair and Ranking Members of the United States Senate Committees on Commerce, Science, and Transportation and Appropriations and applicable Subcommittees (sent April 15, 2009).

3. Elimination of Regulatory Fee Categories for International Public Fixed Radio and International High Frequency Broadcast Stations

10. In our FY 2008 Report and Order, we sought comment on eliminating several categories of services from our schedule of regulatory fees.¹⁹ The Commission received no comments on those proposals. In the FY 2009 NPRM and Order, the Commission adopted an Order which eliminated the regulatory fee categories for International Public Fixed Radio and International High Frequency Broadcast Stations.²⁰

¹⁹ FY 2008 Report and Order at paragraphs 55 and 56.

²⁰ FY 2009 NPRM and Order at paragraph 5.

11. After the adoption of the FY 2009 NPRM and Order, the Commission notified Congress on May 20, 2009 per section 9(b)(4)(B) of the Communications Act of the methodology change.²¹ After the pending 90-day congressional notification period expires, i.e., after August 18, 2009, the elimination of these two regulatory fee categories will become effective. The FY 2009 Schedule of Regulatory Fees in Appendix C reflects the elimination of these two categories based on the Commission's action in the FY 2009 NPRM and Order.

²¹ 47 U.S.C. 159(b)(4)(B); Letter concerning permitted amendment from Office of Managing Director, Federal Communications Commission to Chair and Ranking Members of U.S. House of Representatives' Committees on Energy and Commerce and Appropriations and applicable Subcommittees and to Chair and Ranking Members of the United States Senate Committees on Commerce, Science, and Transportation and Appropriations and applicable Subcommittees (sent May 20, 2009).

B. Regulatory Fee Obligations for Digital Broadcasters

12. In our FY 2009 NPRM and Order, we reiterated that consistent with past years, we would not assess FY 2009 regulatory fees for both digital and analog licenses from a licensee in the process of transitioning from analog to digital.²² Furthermore, we stated that stations that were broadcasting in both analog and digital on October 1, 2008 would be assessed FY 2009 regulatory fees for their analog license only.²³ Also consistent with our past practice, we noted that stations that were broadcasting in digital only on October 1, 2008 would not be assessed regulatory fees for their digital license for FY 2009.²⁴

²² FY 2009 NPRM and Order at paragraph 10.

²³ Id.

²⁴ Id.

13. In our FY 2009 NPRM and Order, we proposed that beginning in FY 2010, we plan to collect regulatory fees from digital broadcasters, and we sought comment on this plan to collect regulatory fees on full-power digital broadcast stations beginning with FY 2010, i.e., the fiscal year after the nation-wide transition date on June 12, 2009.²⁵ We received no comments on this issue. Our goal is to ensure that digital broadcasters will pay their share of regulatory fees in the years after the nation-wide transition is complete. Therefore, in FY 2010, we will collect regulatory fees from digital broadcasters. During the FY 2010 regulatory fee process, we will again remind digital broadcasters of their regulatory fee obligations.

²⁵ Id. at paragraph 11.

C. Commercial Mobile Radio Service Messaging Service

14. Commercial Mobile Radio Service (CMRS) Messaging Service, which replaced the CMRS One-Way Paging fee category in 1997, includes all narrowband services.²⁶ In the FY 2009 NPRM and Order, we proposed maintaining the messaging service regulatory fee at $0.08 per subscriber, the rate first established for this service in FY 2002.²⁷

²⁶ See Assessment and Collection of Regulatory Fees for Fiscal Year 1997, MD Docket No. 96-186, Report and Order, 12 FCC Rcd 17161, 17184-85, paragraph 60 (1997) (FY 1997 Report and Order).

²⁷ FY 2009 NPRM and Order at paragraph 12.

15. One commenter, AAPC, addressed this issue.²⁸ AAPC submits that maintaining the fee at the existing level is the minimum reasonable and appropriate action under the prevailing circumstances in the paging industry.²⁹ We conclude that for FY 2009 we should continue this regulatory fee rate at $0.08 per subscriber due to the declining subscriber base in this industry.³⁰

²⁸ AAPC Comments at 1-4.

²⁹ Id. at 2.

³⁰ The subscriber base in the paging industry declined 83 percent from 40.8 million to 6.95 million, from FY 1997 to FY 2008, according to FY 2008 collection data as of September 30, 2008.

D. International Bearer Circuits

1. Terrestrial Non-Common Carrier Circuits

16. As part of our comprehensive effort to review our regulatory fees process for possible ways to make the process more equitable, we sought comment in our FY 2009 NPRM and Order on whether, beginning in FY 2010, carriers providing international service over terrestrial circuits should also pay international bearer circuit (IBC) fees on non-common carrier circuits.³¹ Five parties filed comments or reply comments. In joint comments, Bestel USA Inc., Hibernia Atlantic US LLC, and Level 3 Communications LLC (Joint Commenters) argue that carriers should not be assessed regulatory fees on their non-common carrier circuits, in part, because the Commission does not authorize those services or collect data on them, and thus there is no burden on the Commission to regulate these services.³² The Coalition of Canadian-Based Service Providers (Coalition) echoes these arguments, contending that international terrestrial fiber-based non-common carriers are not regulated by the Commission, they do not hold 214 licenses, and are not subject to enforcement and policymaking activities.³³ Sprint Nextel (Sprint) opposes the imposition of regulatory fees on terrestrial non-common carrier bearer circuits that are used exclusively for providing Internet/IP services.³⁴ AT&T, on the other hand, argues that in the interest of providing equitable treatment of all providers, per circuit fees should be levied on non-common carrier terrestrial circuits.³⁵ Verizon and Verizon Wireless agree with Joint Commenters, the Coalition and Sprint, that non-common carrier services over terrestrial international circuits is inherently different from such services over satellite circuits and submarine cable systems.³⁶ In its reply comments, AT&T argues that non-common carrier terrestrial circuits currently receive an unfair cost advantage because they are not assessed a regulatory fee, and it is possible that common carriers will increasingly market capacity on a non-common carrier basis to avoid paying these fees, thereby increasing the fees for the smaller pool of remaining common carrier circuits.³⁷

³¹ FY 2009 NPRM and Order at paragraph 13-14.

³² Bestel USA, Hibernia Atlantic US, and Level 3 Communications comments at 3-4.

³³ Coalition comments at 3, 8-9.

³⁴ Sprint comments at 1.

³⁵ AT&T comments at 1.

³⁶ Verizon and Verizon Wireless comments at 2-3.

³⁷ AT&T reply comments at 1-2.

17. The commenters present a number of competing arguments on whether carriers should be assessed regulatory fees for their terrestrial non-common carrier circuits. In the FY 2009 NRPM and Order, we sought comment on whether we should make such an assessment starting in FY 2010, at the earliest. Given the complexity of the legal, policy and equity issues involved, we decline to make a determination at this time. We may further consider this issue in the future.

E. Administrative and Operational Issues

18. In our FY 2009 NPRM and Order, we sought general comment on ways to improve our procedures in collecting annual section 9 regulatory fees.³⁸ We received comments from the American Cable Association (ACA) regarding the fee notification of CARS (Cable Television Relay Service) and Earth Station licensees, and one specific comment from AT&T to send annual notification assessments to licensees of submarine cable systems. We received no reply comments relating to our collection procedures and processes. We will address these comments in the appropriate paragraphs below.

³⁸ FY 2009 NPRM and Order at paragraph 15.

1. Mandatory Use of Fee Filer

19. In our FY 2009 NPRM and Order, we proposed to institute a mandatory filing requirement using the Commission's electronic filing and payment system (also known as Fee Filer).³⁹ Fee Filer is not a new system at the Commission, and although we have strongly encouraged its use for many years for the filing and payment of annual regulatory fees, we proposed this year to make its use mandatory. We received no comments and no reply comments regarding this matter.

³⁹ FY 2009 NPRM and Order at paragraph 16.

20. For the reasons discussed in the FY 2009 NPRM and Order, we conclude that beginning in the FY 2009 regulatory fee cycle, licensees filing their annual regulatory fee payments must begin the process by entering the Commission's Fee Filer system with a valid FRN and password. Therefore, it is very important for licensees to have a current and valid FRN address on file in the Commission's Registration System (CORES). Licensees will also need to have their FRN passwords available when entering the Commission's CORES registration system. In some instances, it will be necessary to use a specific FRN and password that is linked to a particular regulatory fee bill. Going forward, only Form 159-E documents generated from Fee Filer will be permitted when sending in a regulatory fee payment to U.S. Bank. By requiring licensees to use Fee Filer to begin the regulatory fee payment process, errors resulting from illegible handwriting on hardcopy Form 159's will be greatly reduced, and we will be able to create an electronic record of licensee payment attributes that are more easily traced than those payments that are simply mailed in with a hardcopy Form 159.

21. There are many benefits to licensees for using the Commission's electronic filing and payment system: (1) Expeditious submission of payment; (2) no postage or courier costs (when paid through Fee Filer); (3) fewer errors caused by illegible handwriting or payments submitted without an FRN number or the appropriate data attributes (e.g., payers will avoid receiving delinquency notices because of payment submission errors); (4) improved recordkeeping and payment reconciliation; (5) reduced administrative burden on both licensees and on Commission staff in processing regulatory fee payments; (6) less expensive than a wire transfer; and (7) a reduced burden of preparing, mailing, and storing paper documents.

22. We realize that not all licensees are able to pay their regulatory fees using Fee Filer. In some instances, the regulatory fee payment may be greater than $99,999, in which case, the use of a credit card will be limited by restrictions placed on it by the U.S. Treasury. For those licensees who choose to pay by check or money order or pay via wire transfer, a voucher Form 159-E will be needed before mailing the check to the Commission's lockbox bank, or in the case of a wire transfer, faxing the Form 159-E to the lockbox bank. For those licensees choosing to make a payment using their bank account (also known as an Automated Clearing House (“ACH”) payment), the submission of Form 159-E to the lockbox bank will not be necessary. In such situations, regardless of whether a payment is made online or submitted with a check or money order along with a Form 159-E, the Commission's requirement now is to begin the process of paying regulatory fees by starting with Fee Filer. The primary difference is that by starting the payment process using Fee Filer, even if the payment is then mailed to the Commission's lockbox bank, a voucher Form 159-E will be generated that will have important electronic attributes associated with this regulatory fee payment.

23. The mandatory use of Fee Filer to begin the regulatory fee payment process is an important step forward in providing our licensees with a paperless, electronic environment to use when conducting business with the Commission. This practice of using Fee Filer will not only enable the Commission to process regulatory fee payments more efficiently and accurately, it will also benefit licensees by reducing the administrative burden of filing and paying annual regulatory fees. Because no comments or reply comments were submitted to the contrary regarding this issue, we will institute a mandatory use of Fee Filer to begin the process of filing to pay annual regulatory fees. Beginning in the FY 2009 regulatory fee cycle, only Form 159-E documents generated from Fee Filer will be permitted when sending in a regulatory fee payment to U.S. Bank.

2. Notification and Collection of Regulatory Fees

a. Pre-Bills

24. In prior years, the Commission mailed pre-bills via surface mail to licensees in select regulatory fee categories: Interstate telecommunications service providers (ITSPs), Geostationary (GSO) and Non-Geostationary (NGSO) satellite space station licensees,⁴⁰ holders of Cable Television Relay Service (CARS) licenses, and Earth Station licensees.⁴¹ The remaining regulatees did not receive pre-bills. In our FY 2009 NPRM and Order, we proposed to show the attributes of these pre-bills on Fee Filer, but not actually mail them out to licensees via surface mail.⁴² We received one general comment from the American Cable Association (ACA), and one specific comment from AT&T. We received no reply comments.

⁴⁰ Geostationary orbit space station (GSO) licensees received regulatory fee pre-bills for satellites that (1) were licensed by the Commission and operational on or before October 1 of the respective fiscal year; and (2) were not co-located with and technically identical to another operational satellite on that date (i.e., were not functioning as a spare satellite). Non-geostationary orbit space station (NGSO) licensees received regulatory fee pre-bills for systems that were licensed by the Commission and operational on or before October 1 of the respective fiscal year.

⁴¹ An assessment is a proposed statement of the amount of regulatory fees owed by an entity to the Commission (or proposed subscriber count to be ascribed for purposes of setting the entity's regulatory fee) but it is not entered into the Commission's accounting system as a current debt. A pre-bill is considered an account receivable in the Commission's accounting system. Pre-bills reflect the amount owed and have a payment due date of the last day of the regulatory fee payment window. Consequently, if a pre-bill is not paid by the due date, it becomes delinquent and is subject to our debt collection procedures. See also 47 CFR 1.1161(c), 1.1164(f)(5), and 1.1910.

⁴² See FY 2009 NPRM and Order at paragraph 20.

25. The ACA contends that because there are many small cable operators and independent earth station licensees, the Commission should provide notice to each licensee via e-mail when the pre-bill information for CARS and Earth Stations is available for viewing in Fee Filer.⁴³ ACA understands why the Commission has decided to discontinue mailing these pre-bills, but contends that the Commission should consider e-mail as an alternate way of notifying small operators that their bill information is available in Fee Filer.⁴⁴ ACA also contends that if the Commission decides to cease mailing pre-bill notices, it is likely that many small operators will be unaware of this change, and as a result, some operators may inadvertently miss the filing deadline while waiting for receipt of the pre-bill.⁴⁵ For this reason, ACA suggests that cable operators with 5,000 or fewer subscribers should receive a 180-day grace period for FY 2009 CARS and Earth Station regulatory fee payments.⁴⁶ In its comments, AT&T recommends that the Commission send a separate annual fee assessment notification to each submarine cable licensee informing them of their obligation to pay submarine cable regulatory fees.⁴⁷

⁴³ American Cable Association (ACA) comments at 4.

⁴⁴ Id. at 4.

⁴⁵ Id. at 5.

⁴⁶ Id.

⁴⁷ AT&T comments at 3.

26. The Commission does not maintain a systematic listing of e-mail addresses for individual CARS and Earth Station licensees, and so, attempting to use such a listing to contact small cable operators and independent earth station licensees may not prove useful. However, because all pre-bills will be loaded into Fee Filer, once Fee Filer becomes operational, this will be the signal by which licensees can view their pre-bill information online. As we have for many years, the Commission will post a Public Notice online announcing the date Fee Filer will become operational, and once this Notice is published, licensees will know that they can view their pre-bill information in Fee Filer. Having provided this Notice to licensees and having urged licensees to use Fee Filer for several years, the Commission will not provide a 180-day grace period for regulatory fee payments as ACA suggests.

27. In its comments, AT&T suggests that the Commission notify licensees of their obligation to pay submarine cable system regulatory fees. AT&T contends that because there is a new regulatory fee methodology for submarine cable fees, and there can be multiple license holders for each submarine cable system, the Commission should try to contact the license holders of submarine cable systems to inform them of their obligation to pay submarine cable regulatory fees.⁴⁸ In the Submarine Cable Order,⁴⁹ the Commission did implement a regulatory fee methodology change for submarine cable systems. Although there may be multiple license holders for each submarine cable system, the total number of license holders is small and information available for each license holder is relatively accurate. However, rather than sending individual notification assessments to each submarine cable licensee, as AT&T suggests, the Commission in FY 2009 will publish a Public Notice that identifies the license holders of each submarine cable system. This Public Notice will serve as notice to all submarine cable license holders of their FY 2009 obligation to pay regulatory fees under the new methodology.

⁴⁸ Id. at 3.

⁴⁹ See Submarine Cable Order at paragraph 1.

III. Procedural Matters

28. Included below are procedural items as well as our current payment and collection methods that we have revised over the past several years to expedite the processing of regulatory fee payments. We include these payments and collection procedures here as a useful way to remind regulatory fee payers and the public about these aspects of the annual regulatory fee collection process. For FY 2009, we have not changed our procedures with the exception of Pre-Bills, which as discussed above the Commission will no longer be sending out via surface mail. We also discuss at the outset a procedural matter about waivers raised by a commenter.

29. In its comments, the Named State Broadcasters Associations (State Associations) suggested that the Commission's standard for deciding whether to grant a waiver for financial hardship should be revised to allow greater flexibility.⁵⁰ The State Associations commented that the current recession is crippling stations nationwide.⁵¹ Furthermore, the State Associations commented that: “Especially during this period of deep recession, if a station shows the Commission (i) that its revenues are down substantially and that it has had to cut expenses, including employee layoffs, furloughs, and salary reductions in order to keep the station operating, or (ii) that it has broken, or is close to breaking, loan covenants or is otherwise in default of its financing, or (iii) that it is on the brink of some form of foreclosure or bankruptcy, a waiver of the FY 2009 regulatory fee payment requirement should be granted.” ⁵²

⁵⁰ State Associations at 6-7.

⁵¹ Id. at 7.

⁵² Id.

30. We decline to adopt the State Associations' proposals. In establishing the regulatory fee program, the Commission recognized that in certain instances payment of a regulatory fee may impose an undue financial hardship upon a licensee. The Commission therefore decided to grant waivers or reductions of its regulatory fees in those instances where a “petitioner presents a compelling case of financial hardship.” ⁵³ Under the current standard employed by the Commission, regulatees can establish financial hardship by submitting: “Information such as a balance sheet and profit and loss statement (audited, if available), a cash flow projection * * * (with an explanation of how calculated), a list of their officers and their individual compensation, together with a list of their highest paid employees, other than officers, and the amount of their compensation, or similar information.” ⁵⁴ The Commission also accepts as evidence of financial hardship that licensees' stations are bankrupt, undergoing Chapter 11 reorganization, or in receivership.⁵⁵ Furthermore, the Commission will accept evidence that a broadcast station is not broadcasting (dark) as evidence of financial hardship.⁵⁶ The current financial hardship standards have proven useful as bright line tests that can be administered predictably. The Commission does not intend to change these standards at this time and notes that various groups of licensees are impacted by the broader economy from year to year. Modifying our financial hardship waiver standards to accommodate fluctuating economic changes and a potentially limitless variety of different financial showings would not assure that waivers are granted predictably, fairly, and efficiently, and would therefore not be in the public interest.

⁵³ See Implementation of Section 9 of the Communications Act, 9 FCC Rcd 5333, 5346 (1994), recon. granted, 10 FCC Rcd 12759 (1995) (Implementation of Section 9 Order).

⁵⁴ Implementation of Section 9 Order, 10 FCC Rcd at 12762, paragraph 13.

⁵⁵ Id. at 12762, paragraph 14.

⁵⁶ Id. at 12762, paragraph 15.

A. Public Notices and Fact Sheets

31. Each year we post public notices and fact sheets pertaining to regulatory fees on our web site. These documents contain information about the payment due date and the regulatory fee payment procedures. We will continue to post this information on http://www.fcc.gov/fees/regfees.html, but as in previous years we will not send out public notices and fact sheets to regulatees en masse.

B. Assessment Notifications

1. Media Services Licensees

32. Beginning in FY 2003, we sent fee assessment notifications via surface mail to media services entities on a per-facility basis.⁵⁷ The notifications provided the assessed fee amount for the facility in question, as well as the data attributes that determined the fee amount. We have since refined this initiative with improved results.⁵⁸ Consistent with procedures used last year, we will continue our notification assessment initiative in FY 2009 and mail media assessment notifications to licensees at their primary record of contact populated in our Consolidated Database System (CDBS), and to a secondary record of contact, if available. We again will issue fee assessments for AM and FM Radio Stations, AM and FM Construction Permits, FM Translators/Boosters, VHF and UHF Television Stations, VHF and UHF Television Construction Permits, Satellite Television Stations, Low Power Television (LPTV) Stations and LPTV Translators/Boosters, to the extent that applicants, permittees and licensees of such facilities do not qualify as government entities or non-profit entities. Fee assessments have not been issued for broadcast auxiliary stations in prior years, nor will they be issued in FY 2009. We will also continue to make the Commission-authorized web site available to licensees so that they can update or correct any information regarding their facilities and their fee-exempt status.⁵⁹

⁵⁷ As stated previously at footnote 42, an assessment is a proposed statement of the amount of regulatory fees owed by an entity to the Commission (or proposed subscriber count to be ascribed for purposes of setting the entity's regulatory fee) but it is not entered into the Commission's accounting system as a current debt.

⁵⁸ Some of those refinements have been to provide licensees with a Commission-authorized web site to update or correct any information concerning their facilities, and to amend their fee-exempt status, if need be. Also, our notifications now provide licensees with a telephone number to call in the event that they need customer assistance. The notifications themselves have been refined so that licensees of fewer than four facilities receive individual fee assessment postcards for their facilities; whereas licensees of four or more facilities now receive a single assessment letter that lists all of their facilities and the associated regulatory fee obligation for each facility.

⁵⁹ If there is a change of address for the facility, it is the licensee's responsibility to make the address change in the Media Bureau's CDBS system, as well as in the Commission's Registration System (CORES). The Commission-authorized web site for media services licensees is http://www.fccfees.com.

33. Although the Commission will continue to mail media assessment notifications, licensees (including media services) will be required to use Fee Filer as the first step to paying their regulatory fee obligations. The notification assessments are primarily intended to provide licensees with media data attributes and should not be considered a substitute to using Fee Filer as the first step in filing and paying regulatory fees. As explained previously in paragraphs 19 through 23, licensees must first log onto the Commission's Fee Filer system to begin the process of filing and paying their regulatory fees, but once in Fee Filer, licensees may pay by check or money order, credit card, wire transfer, or by ACH. To pay by check, money order, or wire transfer, licensees must log onto Fee Filer and generate a Form 159-E before mailing in their payment along with Form 159-E.

2. CMRS Cellular and Mobile Services Assessments

34. As we have done in prior years, we will continue to mail an assessment letter to CMRS providers using data from the Numbering Resource Utilization Forecast (NRUF) report that is based on “assigned” number counts that have been adjusted for porting to net Type 0 ports (“in” and “out”).⁶⁰ This letter will include a listing of the carrier's Operating Company Numbers (OCNs) upon which the assessment is based.⁶¹ The letters will not include OCNs with their respective assigned number counts, but rather, an aggregate total of assigned numbers for each carrier.

⁶⁰ See Assessment and Collection of Regulatory Fees for Fiscal Year 2005 and Assessment and Collection of Regulatory Fees for Fiscal Year 2004, MD Docket Nos. 05-59 and 04-73, Report and Order and Order on Reconsideration, 20 FCC Rcd 12259, 12264, paragraphs 38-44 (2005).

⁶¹ Id.

35. We will also continue our procedure of giving entities an opportunity to revise their subscriber counts by sending an initial and a final assessment letter. If the carrier does not agree with the number of subscribers listed on the initial assessment letter, the carrier can correct its subscriber count on the letter and return it by the date specified in the assessment letter or by contacting the Commission and stating a reason for the change (e.g., a purchase or sale of a subsidiary), the date of the transaction, and any other pertinent information that will help to justify a reason for the change. If we receive no response or correction to our initial assessment letter, we will expect the fee payment to be based on the number of subscribers listed on the initial assessment. We will review all responses to the initial assessment letters and determine whether a change in the number of subscribers is warranted. The final assessment letter will inform carriers as to whether we have accepted their revision in the number of subscribers.

36. Because some carriers do not file the NRUF report, they may not receive a letter of assessment. In these instances, the carriers should compute their fee payment using the standard methodology ⁶² that is currently in place for CMRS Wireless services (e.g., compute their subscriber counts as of December 31, 2008), and submit their fee payment accordingly. Whether a carrier receives an assessment letter or not, the Commission reserves the right to audit the number of subscribers for which regulatory fees are paid. In the event that the Commission determines that the number of subscribers is inaccurate or that an insufficient reason is given for making a correction on the initial assessment letter, the Commission will assess the carrier for the difference between what was paid and what should have been paid.

⁶² See, e.g., Federal Communications Commission, Regulatory Fees Fact Sheet: What You Owe—Commercial Wireless Services for FY 2008 at 1 (rel. Aug. 2008).

C. Streamlined Regulatory Fee Payment Process

1. Cable Television Subscribers

37. We will continue to permit cable television operators to base their regulatory fee payment on their company's aggregate year-end subscriber count, rather than requiring them to sub-report subscriber counts on a per community unit identifier (CUID) basis.

2. CMRS Cellular and Mobile Providers

38. In FY 2006, we streamlined the CMRS payment process by eliminating the requirement for CMRS providers to identify their individual calls signs when making their regulatory fee payment, requiring instead for CMRS providers to pay their regulatory fees only at the aggregate subscriber level without having to identify their various call signs.⁶³ We will continue this practice in FY 2009. In FY 2007, we consolidated the CMRS cellular and CMRS mobile fee categories into one fee category and as one fee code, thereby eliminating the requirement for CMRS providers to separate their subscriber counts into CMRS cellular and CMRS mobile fee categories during the regulatory fee payment process. This consolidation of fee categories enabled the Commission to process payments more quickly and accurately. For FY 2009, we will continue this practice of combining the CMRS cellular and CMRS mobile fee categories into one regulatory fee category.

⁶³ See Assessment and Collection of Regulatory Fees for Fiscal Year 2006, MD Docket No. 06-68, Report and Order, 21 FCC Rcd 8092, 8105, paragraph 48 (2006).

3. Interstate Telecommunications Service Providers (ITSP)

39. In FY 2007, we adopted a proposal to round lines 14 (total subject revenues) and 16 (total regulatory fee owed) on FCC Form 159-W to the nearest dollar. This revision enabled the Commission to process the ITSP regulatory fee payments more quickly because rounding was performed in a consistent manner and eliminated processing issues that occurred in prior years. In FY 2009, we will continue rounding lines 14 and 16 when calculating the FY 2009 ITSP fee obligation, but as indicated earlier, we will not be mailing out Form 159-W via surface mail.

D. Payment of Regulatory Fees

1. Lock Box Bank

40. All lock box payments to the Commission for FY 2009 will be processed by U.S. Bank, St. Louis, Missouri, and payable to the FCC. For all regulatory fees, the address is: Federal Communications Commission, Regulatory Fees, P.O. Box 979084, St. Louis, MO 63197-9000.

2. Receiving Bank for Wire Payments

41. The receiving bank for all wire payments is the Federal Reserve Bank, New York, New York (TREAS NYC). When making a wire transfer, regulatees must fax a copy of their Fee Filer generated Form 159-E to U.S. Bank, St. Louis, Missouri at (314) 418-4232 at least one hour before initiating the wire transfer (but on the same business day), so as to not delay crediting their account. Wire transfers initiated after 6:00 p.m. (EDT) will be credited the next business day. Complete instructions for making wire payments are posted at http://www.fcc.gov/fees/wiretran.html.

3. De Minimis Regulatory Fees

42. Regulatees whose total FY 2009 regulatory fee liability, including all categories of fees for which payment is due, is less than $10 are exempted from payment of FY 2009 regulatory fees.

4. Standard Fee Calculations and Payment Dates

43. The Commission will accept fee payments made in advance of the window for the payment of regulatory fees. The responsibility for payment of fees by service category is as follows:

• Media Services: Regulatory fees must be paid for initial construction permits (including construction permits for digital television stations) that were granted on or before October 1, 2008 for AM/FM radio stations, analog VHF/UHF full service television stations, and satellite television stations. Regulatory fees must be paid for all broadcast facility licenses granted on or before October 1, 2008. In instances where a permit or license is transferred or assigned after October 1, 2008, responsibility for payment rests with the holder of the permit or license as of the fee due date.

• Wireline (Common Carrier) Services: Regulatory fees must be paid for authorizations that were granted on or before October 1, 2008. In instances where a permit or license is transferred or assigned after October 1, 2008, responsibility for payment rests with the holder of the permit or license as of the fee due date. We note that audio bridging service providers are included in this category.⁶⁴

⁶⁴ Audio bridging services are toll teleconferencing services, and audio bridging service providers are required to contribute directly to the universal service fund based on revenues from these services. On June 30, 2008, the Commission released the InterCall Order, in which the Commission stated that InterCall, Inc. and all similarly situated audio bridging service providers are required to contribute directly to the universal service fund. See Request for Review by InterCall, Inc. of Decision of Universal Service Administrator, CC Docket No. 96-45, Order, 23 FCC Rcd 10731 (2008) (“InterCall Order”).

• Wireless Services: CMRS cellular, mobile, and messaging services (fees based on number of subscribers or telephone number count): Regulatory fees must be paid for authorizations that were granted on or before October 1, 2008. The number of subscribers, units, or telephone numbers on December 31, 2008 will be used as the basis from which to calculate the fee payment.

• The first eleven regulatory fee categories in our Schedule of Regulatory Fees (see Appendix C) pay “small multi-year wireless regulatory fees.” Entities pay these regulatory fees in advance for the entire amount of their five-year or ten-year term of initial license, and only pay regulatory fees again when the license is renewed or a new license is obtained. We include these fee categories in our Schedule of Regulatory Fees to publicize our estimates of the number of “small multi-year wireless” licenses that will be renewed or newly obtained in FY 2009.

• Multichannel Video Programming Distributor Services (cable television operators and CARS licensees): Regulatory fees must be paid for the number of basic cable television subscribers as of December 31, 2008.⁶⁵ Regulatory fees also must be paid for CARS licenses that were granted on or before October 1, 2008. In instances where a CARS license is transferred or assigned after October 1, 2008, responsibility for payment rests with the holder of the license as of the fee due date.

⁶⁵ Cable television system operators should compute their basic subscribers as follows: Number of single family dwellings + number of individual households in multiple dwelling unit (apartments, condominiums, mobile home parks, etc.) paying at the basic subscriber rate + bulk rate customers + courtesy and free service. Note: Bulk-Rate Customers = Total annual bulk-rate charge divided by basic annual subscription rate for individual households. Operators may base their count on “a typical day in the last full week” of December 2008, rather than on a count as of December 31, 2008.

• International Services: Regulatory fees must be paid for earth stations, geostationary orbit space stations and non-geostationary orbit satellite systems that were licensed and operational on or before October 1, 2008. In instances where a license is transferred or assigned after October 1, 2008, responsibility for payment rests with the holder of the license as of the fee due date. Regulatory fees will be paid for international bearer circuits under our newly adopted methodology pending a 90-day Congressional notification for this permitted amendment; ⁶⁶ if for any reason the methodology change is not instituted in FY 2009, the pre-FY 2009 methodology will be used to calculate FY 2009 bearer circuit regulatory fees.

⁶⁶ See Submarine Cable Order.

E. Enforcement

44. Regulatory fee payments must be received and stamped at the lockbox bank by the last day of the regulatory fee filing window to be considered timely. Section 9(c) of the Act requires us to impose an additional charge as a penalty for late payment of any regulatory fee.⁶⁷ A late payment penalty of 25 percent of the unpaid amount of the required regulatory fee will be assessed on the first day following the deadline date for filing of these fees. Failure to pay regulatory fees and/or any late penalty will subject regulatees to sanctions, including those set forth in § 1.1910 of the Commission's rules ⁶⁸ and in the Debt Collection Improvement Act of 1996 (DCIA).⁶⁹ We also assess administrative processing charges on delinquent debts to recover additional costs incurred in processing and handling the related debt pursuant to the DCIA and § 1.1940(d) of the Commission's rules.⁷⁰ These administrative processing charges will be assessed on any delinquent regulatory fee, in addition to the 25 percent late charge penalty. In case of partial payments (underpayments) of regulatory fees, the licensee will be given credit for the amount paid, but if it is later determined that the fee paid is incorrect or not timely paid, then the 25 percent late charge penalty (and other charges and/or sanctions, as appropriate) will be assessed on the portion that is not paid in a timely manner.

⁶⁷ 47 U.S.C. 159(c).

⁶⁸ See 47 CFR 1.1910.

⁶⁹ Delinquent debt owed to the Commission triggers application of the “red light rule” which requires offsets or holds on pending disbursements. 47 CFR 1.1910. In 2004, the Commission adopted rules implementing the requirements of the DCIA. See Amendment of Parts 0 and 1 of the Commission's Rules, MD Docket No. 02-339, Report and Order, 19 FCC Rcd 6540 (2004); 47 CFR Part 1, Subpart O, Collection of Claims Owed the United States.

⁷⁰ 47 CFR 1.1940(d).

45. We will withhold action on any applications or other requests for benefits filed by anyone who is delinquent in any non-tax debts owed to the Commission (including regulatory fees) and will ultimately dismiss those applications or other requests if payment of the delinquent debt or other satisfactory arrangement for payment is not made.⁷¹ Failure to pay regulatory fees can also result in the initiation of a proceeding to revoke any and all authorizations held by the entity responsible for paying the delinquent fee(s).

⁷¹ See 47 CFR 1.1161(c), 1.1164(f)(5), and 1.1910.

F. Final Regulatory Flexibility Analysis

46. As required by the Regulatory Flexibility Act of 1980 (RFA),⁷² the Commission has prepared a Final Regulatory Flexibility Analysis (FRFA) relating to this Report and Order. The FRFA is set forth in Appendix F.

⁷² See 5 U.S.C. 603. The RFA, see 5 U.S.C. 601-612, has been amended by the Small Business Regulatory Enforcement Fairness Act of 1996 (“SBREFA”), Public Law 104-121, Title II, 110 Stat. 847 (1996). The SBREFA was enacted as Title II of the Contract With America Advancement Act of 1996 (CWAAA).

G. Congressional Review Act Analysis

47. The Commission will send a copy of this Report and Order in a report to be sent to Congress and the Government Accountability Office, pursuant to the Congressional Review Act.⁷³

⁷³ See 5 U.S.C. 801(a)(1)(A). The Congressional Review Act is contained in Title II, 251, of the CWAAA; see Public Law 104-121, Title II, 251, 110 Stat. 868.

H. Final Paperwork Reduction Act Analysis

48. This Report and Order contains modified information collection requirements subject to the Paperwork Reduction Act of 1995 (PRA), Public Law 104-13. It will be submitted to the Office of Management and Budget (OMB) for review under section 3507(d) of the PRA.⁷⁴ Our proposed new form for submarine cable operators is attached as Appendix G. OMB and the general public will be afforded an opportunity to comment on the modified information collection requirements contained in this proceeding. In addition, we note that pursuant to the Small Business Paperwork Relief Act of 2002, Public Law 107-198, see 44 U.S.C. 3506(c)(4), we previously sought specific comment on how the Commission might “further reduce the information collection burden for small business concerns with fewer than 25 employees.” We received no comment regarding such potential small business burdens.

⁷⁴ 44 U.S.C. 3507(d).

IV. Ordering Clauses

49. Accordingly, it is ordered that, pursuant to sections 4(i) and (j), 9, and 303(r) of the Communications Act of 1934, as amended, 47 U.S.C. 154(i), 154(j), 159, and 303(r), this Report and Order is hereby adopted.

50. It is further ordered that the FY 2009 section 9 regulatory fee assessment requirements are adopted as specified herein.

51. It is further ordered that part 1 of the Commission's rules is amended as set forth in the Rule Changes, and these rules shall become effective September 10, 2009.

52. It is further ordered that the Commission's Consumer and Governmental Affairs Bureau, Reference Information Center, shall send a copy of this Report and Order, including the Final Regulatory Flexibility Analysis in Appendix F, to the Chief Counsel for Advocacy of the U.S. Small Business Administration.

Federal Communications Commission.
Marlene H. Dortch,
Secretary.

List of Subjects in 47 CFR Part 1

Administrative practice and procedure.

Rule Changes

For the reasons discussed in the preamble, the Federal Communications Commission amends 47 CFR part 1 as follows:

PART 1—PRACTICE AND PROCEDURE

1. The authority citation for part 1 continues to read as follows:

Authority: 15 U.S.C. 79 et seq.; 47 U.S.C. 151, 154(i), 154(j), 155, 157, 225, 303(r), and 309.

2. Section 1.1152 is revised to read as follows:

§ 1.1152 Schedule of annual regulatory fees and filing locations for wireless radio services.

Exclusive use services (per license) | Fee amount ¹ | Address
1. Land Mobile (Above 470 MHz and 220 MHz Local, Base Station & SMRS) (47 CFR, Part 90)
(a) New, Renew/Mod (FCC 601 & 159) | $40.00 | FCC, P.O. Box 979097, St. Louis, MO 63197-9000.
(b) New, Renew/Mod (Electronic Filing) (FCC 601 & 159) | 40.00 | FCC, P.O. Box 979097, St. Louis, MO 63197-9000.
(c) Renewal Only (FCC 601 & 159) | 40.00 | FCC, P.O. Box 979097, St. Louis, MO 63197-9000.
(d) Renewal Only (Electronic Filing) (FCC 601 & 159) | 40.00 | FCC, P.O. Box 979097, St. Louis, MO 63197-9000.
220 MHz Nationwide
(a) New, Renew/Mod (FCC 601 & 159) | 40.00 | FCC, P.O. Box 979097, St. Louis, MO 63197-9000.
(b) New, Renew/Mod (Electronic Filing) (FCC 601 & 159) | 40.00 | FCC, P.O. Box 979097, St. Louis, MO 63197-9000.
(c) Renewal Only (FCC 601 & 159) | 40.00 | FCC, P.O. Box 979097, St. Louis, MO 63197-9000.
(d) Renewal Only (Electronic Filing) (FCC 601 & 159) | 40.00 | FCC, P.O. Box 979097, St. Louis, MO 63197-9000.
2. Microwave (47 CFR Pt. 101) (Private)
(a) New, Renew/Mod (FCC 601 & 159) | 30.00 | FCC, P.O. Box 979097, St. Louis, MO 63197-9000.
(b) New, Renew/Mod (Electronic Filing) (FCC 601 & 159) | 30.00 | FCC, P.O. Box 979097, St. Louis, MO 63197-9000.
(c) Renewal Only (FCC 601 & 159) | 30.00 | FCC, P.O. Box 979097, St. Louis, MO 63197-9000.
(d) Renewal Only (Electronic Filing) (FCC 601 & 159) | 30.00 | FCC, P.O. Box 979097, St. Louis, MO 63197-9000.
3. 218-219 MHz Service
(a) New, Renew/Mod (FCC 601 & 159) | 65.00 | FCC, P.O. Box 979097, St. Louis, MO 63197-9000.
(b) New, Renew/Mod (Electronic Filing) (FCC 601 & 159) | 65.00 | FCC, P.O. Box 979097, St. Louis, MO 63197-9000.
(c) Renewal Only (FCC 601 & 159) | 65.00 | FCC, P.O. Box 979097, St. Louis, MO 63197-9000
(d) Renewal Only (Electronic Filing) (FCC 601 & 159) | 65.00 | FCC, P.O. Box 979097, St. Louis, MO 63197-9000.
4. Shared Use Services
Land Mobile (Frequencies Below 470 MHz—except 220 MHz)
(a) New, Renew/Mod (FCC 601 & 159) | 20.00 | FCC, P.O. Box 979097, St. Louis, MO 63197-9000.
(b) New, Renew/Mod (Electronic Filing) (FCC 601 & 159) | 20.00 | FCC, P.O. Box 979097, St. Louis, MO 63197-9000.
(c) Renewal Only (FCC 601 & 159) | 20.00 | FCC, P.O. Box 979097, St. Louis, MO 63197-9000.
(d) Renewal Only (Electronic Filing) (FCC 601 & 159) | 20.00 | FCC, P.O. Box 979097, St. Louis, MO 63197-9000.
General Mobile Radio Service
(a) New, Renew/Mod (FCC 605 & 159) | 5.00 | FCC, P.O. Box 979097, St. Louis, MO 63197-9000.
(b) New, Renew/Mod (Electronic Filing) (FCC 605 & 159) | 5.00 | FCC, P.O. Box 979097, St. Louis, MO 63197-9000.
(c) Renewal Only (FCC 605 & 159) | 5.00 | FCC, P.O. Box 979097, St. Louis, MO 63197-9000.
(d) Renewal Only (Electronic Filing) (FCC 605 & 159) | 5.00 | FCC, P.O. Box 979097, St. Louis, MO 63197-9000.
Rural Radio (Part 22)
(a) New, Additional Facility, Major Renew/Mod (Electronic Filing) (FCC 601 & 159) | 20.00 | FCC, P.O. Box 979097, St. Louis, MO 63197-9000.
(b) Renewal, Minor Renew/Mod (Electronic Filing) (FCC 601 & 159) | 20.00 | FCC, P.O. Box 979097, St. Louis, MO 63197-9000.
Marine Coast
(a) New, Renewal/Mod (FCC 601 & 159) | 45.00 | FCC, P.O. Box 979097, St. Louis, MO 63197-9000.
(b) New, Renewal/Mod (Electronic Filing) (FCC 601 & 159) | 45.00 | FCC, P.O. Box 979097, St. Louis, MO 63197-9000.
(c) Renewal Only (FCC 601 & 159) | 45.00 | FCC, P.O. Box 979097, St. Louis, MO 63197-9000.
(d) Renewal Only (Electronic Filing) (FCC 601 & 159) | 45.00 | FCC, P.O. Box 979097, St. Louis, MO 63197-9000.
Aviation Ground
(a) New, Renewal/Mod (FCC 601 & 159) | 10.00 | FCC, P.O. Box 979097, St. Louis, MO 63197-9000.
(b) New, Renewal/Mod (Electronic Filing) (FCC 601 & 159) | 10.00 | FCC, P.O. Box 979097, St. Louis, MO 63197-9000.
(c) Renewal Only (FCC 601 & 159) | 10.00 | FCC, P.O. Box 979097, St. Louis, MO 63197-9000.
(d) Renewal Only (Electronic Only) (FCC 601 & 159) | 10.00 | FCC, P.O. Box 979097, St. Louis, MO 63197-9000.
Marine Ship
(a) New, Renewal/Mod (FCC 605 & 159) | 10.00 | FCC, P.O. Box 979097, St. Louis, MO 63197-9000.
(b) New, Renewal/Mod (Electronic Filing) (FCC 605 & 159) | 10.00 | FCC, P.O. Box 979097, St. Louis, MO 63197-9000.
(c) Renewal Only (FCC 605 & 159) | 10.00 | FCC, P.O. Box 979097, St. Louis, MO 63197-9000.
(d) Renewal Only (Electronic Filing) (FCC 605 & 159) | 10.00 | FCC, P.O. Box 979097, St. Louis, MO 63197-9000.
Aviation Aircraft
(a) New, Renew/Mod (FCC 605 & 159) | 5.00 | FCC, P.O. Box 979097, St. Louis, MO 63197-9000.
(b) New, Renew/Mod (Electronic Filing) (FCC 605 & 159) | 5.00 | FCC, P.O. Box 979097, St. Louis, MO 63197-9000.
(c) Renewal Only (FCC 605 & 159) | 5.00 | FCC, P.O. Box 979097, St. Louis, MO 63197-9000.
(d) Renewal Only (Electronic Filing) (FCC 605 & 159) | 5.00 | FCC, P.O. Box 979097, St. Louis, MO 63197-9000.
5. Amateur Vanity Call Signs
(a) Initial or Renew (FCC 605 & 159) | 1.34 | FCC, P.O. Box 979097, St. Louis, MO 63197-9000.
(b) Initial or Renew (Electronic Filing) (FCC 605 & 159) | 1.34 | FCC, P.O. Box 979097, St. Louis, MO 63197-9000.
6. CMRS Cellular/Mobile Services (per unit)
(FCC 159) | .18² | FCC, P.O. Box 979084, St. Louis, MO 63197-9000.
7. CMRS Messaging Services (per unit)
(FCC 159) | .08³ | FCC, P.O. Box 979084, St. Louis, MO 63197-9000.
8. Broadband Radio Service
(formerly MMDS and MDS) | 320 | FCC, P.O. Box 979084, St. Louis, MO 63197-9000.
9. Local Multipoint Distribution Service | 320 | FCC, P.O. Box 979084, St. Louis, MO 63197-9000.
¹ Note that “small fees” are collected in advance for the entire license term. Therefore, the annual fee amount shown in this table that is a small fee (categories 1 through 5) must be multiplied by the 5- or 10-year license term, as appropriate, to arrive at the total amount of regulatory fees owed. It should be further noted that application fees may also apply as detailed in § 1.1102 of this chapter.
² These are standard fees that are to be paid in accordance with § 1.1157(b) of this chapter.
³ These are standard fees that are to be paid in accordance with § 1.1157(b) of this chapter.

3. Section 1.1153 is revised to read as follows:

§ 1.1153 Schedule of annual regulatory fees and filing locations for mass media services.

1. AM Class A
<=25,000 population | $675 | FCC, Radio, P.O. Box 979084, St. Louis, MO 63197-9000.
25,001-75,000 population | 1,350
75,001-150,000 population | 2,025
150,001-500,000 population | 3,050
500,001-1,200,000 population | 4,400
1,200,001-3,000,000 population | 6,750
>3,000,000 population | 8,100
2. AM Class B
<=25,000 population | 550 | FCC, Radio, P.O. Box 979084, St. Louis, MO 63197-9000.
25,001-75,000 population | 1,075
75,001-150,000 population | 1,350
150,001-500,000 population | 2,300
500,001-1,200,000 population | 3,500
1,200,001-3,000,000 population | 5,400
>3,000,000 population | 6,475
3. AM Class C
<=25,000 population | 500 | FCC, Radio, P.O. Box 979084, St. Louis, MO 63197-9000.
25,001-75,000 population | 750
75,001-150,000 population | 1,000
150,001-500,000 population | 1,500
500,001-1,200,000 population | 2,500
1,200,001-3,000,000 population | 3,750
>3,000,000 population | 4,750
4. AM Class D
<=25,000 population | 575 | FCC, Radio, P.O. Box 979084, St. Louis, MO 63197-9000.
25,001-75,000 population | 875
75,001-150,000 population | 1,450
150,001-500,000 population | 1,725
500,001-1,200,000 population | 2,875
1,200,001-3,000,000 population | 4,600
>3,000,000 population | 5,750
5. AM Construction Permit | 400 | FCC, Radio, P.O. Box 979084, St. Louis, MO 63197-9000.
6. FM Classes A, B1 and C3
<=25,000 population | 650 | FCC, Radio, P.O. Box 979084, St. Louis, MO 63197-9000.
25,001-75,000 population | 1,325
75,001-150,000 population | 1,825
150,001-500,000 population | 2,800
500,001-1,200,000 population | 4,450
1,200,001-3,000,000 population | 7,250
>3,000,000 population | 9,250
7. FM Classes B, C, C0, C1 and C2
<=25,000 population | 825 | FCC, Radio, P.O. Box 979084, St. Louis, MO 63197-9000.
25,001-75,000 population | 1,450
75,001-150,000 population | 2,725
150,001-500,000 population | 3,550
500,001-1,200,000 population | 5,225
1,200,001-3,000,000 population | 8,350
>3,000,000 population | 10,850
8. FM Construction Permits | 650 | FCC, Radio, P.O. Box 979084, St. Louis, MO 63197-9000.
TV (47 CFR, Part 73) VHF Commercial
1. Markets 1 thru 10 | 77,575 | FCC, TV Branch, P.O. Box 979084, St. Louis, MO 63197-9000.
2. Markets 11 thru 25 | 60,550
3. Markets 26 thru 50 | 37,575
4. Markets 51 thru 100 | 22,950
5. Remaining Markets | 5,950
6. Construction Permits | 5,950
UHF Commercial
1. Markets 1 thru 10 | 24,250 | FCC, UHF Commercial, P.O. Box 979084, St. Louis, MO, 63197-9000.
2. Markets 11 thru 25 | 21,525
3. Markets 26 thru 50 | 13,350
4. Markets 51 thru 100 | 7,600
5. Remaining Markets | 1,950
6. Construction Permits | 1,950
Satellite UHF/VHF Commercial
1. All Markets | 1,275 | FCC Satellite TV P.O. Box 979084, St. Louis, MO 63197-9000.
2. Construction Permits | 650
Low Power TV, Class A TV, TV/FM Translator, & TV/FM Booster (47 CFR Part 74) | 400 | FCC, Low Power, P.O. Box 979084, St. Louis, MO 63197-9000.
Broadcast Auxiliary | 10 | FCC, Auxiliary, P.O. Box 979084, St. Louis, MO 63197-9000.

4. Section 1.1154 is revised to read as follows:

§ 1.1154 Schedule of annual regulatory charges and filing locations for common carrier services.

| Fee amount | Address
Radio Facilities:
1. Microwave (Domestic Public Fixed) (Electronic Filing) (FCC Form 601 & 159) | $30.00 | FCC, P.O. Box 979097, St. Louis, MO 63197-9000.
Carriers:
1. Interstate Telephone Service Providers (per interstate and international end-user revenues (see FCC Form 499-A) | .00342 | FCC, Carriers, P.O. Box 979084, St. Louis, MO 63197-9000.

5. Section 1.1155 is revised to read as follows:

§ 1.1155 Schedule of regulatory fees and filing locations for cable television services.

| Fee amount | Address
1. Cable Television Relay Service | $260 | FCC, Cable, P.O. Box 979084, St. Louis, MO 63197-9000.
2. Cable TV System (per subscriber) | .88

6. Section 1.1156 is revised to read as follows:

§ 1.1156 Schedule of regulatory fees and filing locations for international services.

(a) The following schedule applies for the listed services:

Fee category | Fee amount | Address
(1) Space Stations (Geostationary Orbit) | $127,175 | FCC, International, P.O. Box 979084, St. Louis, MO 63197-9000.
(2) Space Stations (Non-Geostationary Orbit) | 137,225 | FCC, International, P.O. Box 979084, St. Louis, MO 63197-9000.
(3) Earth Stations: Transmit/Receive & Transmit only (per authorization or registration) | 210 | FCC, International, P.O. Box 979084, St. Louis, MO 63197-9000.

(b) (1) International Terrestrial and Satellite. Regulatory fees for International Bearer Circuits are to be paid by facilities-based common carriers that have active (used or leased) international bearer circuits as of December 31, of the prior year in any terrestrial or satellite transmission facility for the provision of service to an end user or resale carrier, which includes active circuits to themselves or to their affiliates. In addition, non-common carrier satellite operators must pay a fee for each circuit sold or leased to any customer, including themselves or their affiliates, other than an international common carrier authorized by the Commission to provide U.S. international common carrier services. “Active circuits” for these purposes include backup and redundant circuits. In addition, whether circuits are used specifically for voice or data is not relevant in determining that they are active circuits.

(2) The fee amount, per active 64 KB circuit or equivalent will be determined for each fiscal year. Payment, if mailed, shall be sent to: FCC, International, P.O. Box 979084, St. Louis, MO 63197-9000.

International terrestrial and satellite (capacity as of December 31, 2008) | Fee amount | Address
Terrestrial Common Carrier, Satellite Common Carrier, Satellite Non-Common Carrier | $0.75 per 64 KB Circuit | FCC, International, P.O. Box 979084, St. Louis, MO 63197-9000.

(c) Submarine cable: Regulatory fees for submarine cable systems will be paid annually, per cable landing license, for all submarine cable systems operating as of December 31 of the prior year. The fee amount will be determined by the Commission for each fiscal year. Payment, if mailed, shall be sent to: FCC, International, P.O. Box 979084, St. Louis, MO 63197-9000.

Submarine cable systems (capacity as of December 31) | Fee amount | Address
< 2.5 Gbps | $15,075 | FCC, International, P.O. Box 979084, St. Louis, MO 63197-9000.
2.5 Gbps or greater, but less than 5 Gbps | 30,125 | FCC, International, P.O. Box 979084, St. Louis, MO 63197-9000.
5 Gbps or greater, but less than 10 Gbps | 60,250 | FCC, International, P.O. Box 979084, St. Louis, MO 63197-9000.
10 Gbps or greater, but less than 20 Gbps | 120,525 | FCC, International, P.O. Box 979084, St. Louis, MO 63197-9000.
20 Gbps or greater | 241,025 | FCC, International, P.O. Box 979084, St. Louis, MO 63197-9000.

Note: The following appendixes will not appear in the Code of Federal Regulations.

Appendix A

List of Commenters
Commenter | Abbreviated name
American Association of Paging Carriers | AAPC.
American Cable Association | ACA.
AT&T, Inc | AT&T.
Bestel USA Inc., Hibernia Atlantic US LLC, and Level 3 Communications, LLC | Joint Commenters.
Coalition of Canadian-Based Service Providers | Coalition.
Independent Telephone and Telecommunications Alliance | ITTA.
Sprint Nextel | Sprint.
Named State Broadcasters Associations | State Associations.
United States Telecom Association | USTelecom.

List of Commenters—Reply Comments
Commenter | Abbreviated name
AT&T, Inc | AT&T.
Verizon and Verizon Wireless | Verizon.

Appendix B

Calculation of FY 2009 Revenue Requirements and Pro-Rata Fees
[Regulatory fees for the categories shaded in gray are collected by the Commission in advance to cover the term of the license and are submitted along with the application at the time the application is filed]
Fee category | FY 2009 payment units | Years | FY 2008 revenue estimate | Pro-rated FY 2009 revenue requirement | Computed new FY 2009 regulatory fee | Rounded new FY 2009 regulatory fee | Expected FY 2009 revenue
PLMRS (Exclusive Use) | 1,200 | 10 | 460,000 | 501,932 | 42 | 40 | 480,000
PLMRS (Shared use) | 11,500 | 10 | 2,300,000 | 2,509,659 | 22 | 20 | 2,300,000
Microwave | 7,500 | 10 | 1,960,000 | 2,138,666 | 29 | 30 | 2,250,000
218-219 MHz (Formerly IVDS) | 3 | 10 | 1,800 | 1,964 | 65 | 65 | 1,950
Marine (Ship) | 7,500 | 10 | 840,000 | 916,571 | 12 | 10 | 750,000
GMRS | 11,000 | 5 | 350,000 | 381,905 | 7 | 5 | 275,000
Aviation (Aircraft) | 7,000 | 10 | 375,000 | 409,183 | 6 | 5 | 350,000
Marine (Coast) | 275 | 10 | 108,500 | 118,390 | 43 | 45 | 123,750
Aviation (Ground) | 1,500 | 10 | 170,000 | 185,497 | 12 | 10 | 150,000
Amateur Vanity Call Signs | 15,000 | 10 | 184,500 | 201,318 | 1.34 | 1.34 | 201,000
AM Class A | 65 | 1 | 227,500 | 248,238 | 3,819 | 3,825 | 248,625
AM Class B | 1,567 | 1 | 2,737,000 | 2,986,494 | 1,906 | 1,900 | 2,977,300
AM Class C | 938 | 1 | 958,375 | 1,045,737 | 1,115 | 1,125 | 1,055,250
AM Class D | 1,715 | 1 | 3,241,400 | 3,536,873 | 2,062 | 2,050 | 3,515,750
FM Classes A, B1 & C3 | 3,045 | 1 | 6,764,000 | 7,405,656 | 2,432 | 2,425 | 7,384,125
FM Classes B, C, C0, C1 & C2 | 3,051 | 1 | 8,292,175 | 9,073,132 | 2,974 | 2,975 | 9,076,725
AM Construction Permits | 107 | 1 | 39,425 | 43,019 | 402 | 400 | 42,800
FM Construction Permits ¹ | 224 | 1 | 179,400 | 145,600 | 650 | 650 | 145,600
Satellite TV | 127 | 1 | 149,225 | 162,828 | 1,282 | 1,275 | 161,925
Satellite TV Construction Permit | 3 | 1 | 1,785 | 1,948 | 649 | 650 | 1,950
VHF Markets 1-10 | 42 | 1 | 2,984,100 | 3,257,932 | 77,570 | 77,575 | 3,258,150
VHF Markets 11-25 | 55 | 1 | 3,050,925 | 3,330,848 | 60,561 | 60,550 | 3,330,250
VHF Markets 26-50 | 75 | 1 | 2,581,425 | 2,818,550 | 37,581 | 37,575 | 2,818,125
VHF Markets 51-100 | 118 | 1 | 2,480,950 | 2,708,256 | 22,951 | 22,950 | 2,708,100
VHF Remaining Markets | 200 | 1 | 1,092,000 | 1,191,542 | 5,958 | 5,950 | 1,190,000
VHF Construction Permits ¹ | 3 | 1 | 22,400 | 17,850 | 5,950 | 5,950 | 17,850
UHF Markets 1-10 | 87 | 1 | 1,931,475 | 2,109,219 | 24,244 | 24,250 | 2,109,750
UHF Markets 11-25 | 81 | 1 | 1,596,950 | 1,744,200 | 21,533 | 21,525 | 1,743,525
UHF Markets 26-50 | 110 | 1 | 1,344,700 | 1,468,956 | 13,354 | 13,350 | 1,468,500
UHF Markets 51-100 | 164 | 1 | 1,142,400 | 1,247,604 | 7,607 | 7,600 | 1,246,400
UHF Remaining Markets | 195 | 1 | 347,400 | 379,068 | 1,944 | 1,950 | 380,250
UHF Construction Permits ¹ | 15 | 1 | 32,400 | 29,250 | 1,950 | 1,950 | 29,250
Broadcast Auxiliaries | 27,500 | 1 | 276,000 | 301,159 | 11 | 10 | 275,000
LPTV/Translators/Boosters/Class A TV | 3,450 | 1 | 1,277,500 | 1,393,952 | 404 | 400 | 1,380,000
CARS Stations | 650 | 1 | 153,750 | 167,765 | 258 | 260 | 169,000
Cable TV Systems | 64,500,000 | 1 | 51,840,000 | 56,565,522 | 0.8769 | 0.88 | 56,760,000
Interstate Telecommunication Service Providers | 46,800,000,000 | 1 | 146,638,000 | 160,004,920 | 0.0034189 | 0.00342 | 160,056,000
CMRS Mobile Services (Cellular/Public Mobile) | 276,000,000 | 1 | 44,200,000 | 48,280,138 | 0.1749 | 0.180 | 49,680,000
CMRS Messag. Services | 7,000,000 | 1 | 560,000 | 560,000 | 0.080 | 0.080 | 560,000
BRS ² | 1,725 | 1 | 501,500 | 552,000 | 320 | 320 | 552,000
LMDS | 335 | 1 | 98,825 | 107,200 | 320 | 320 | 107,200
Per 64 kbps Int'l Bearer Circuits Terrestrial (Common) & Satellite (Common & Non-Common) | 1,482,372 | 1 | 8,137,500 | 1,106,700 | 0.747 | 0.75 | 1,111,779
Submarine Cable Providers (see chart in Appendix C) ³ | 32.44 | 1 |  | 7,818,300 | 241,008 | 241,000 | 7,818,040
Earth Stations | 4,050 | 1 | 780,000 | 851,102 | 210 | 210 | 850,500
Space Stations (Geostationary) | 87 | 1 | 10,140,500 | 11,064,866 | 127,182 | 127,175 | 11,064,225
Space Stations (Non-Geostationary | 6 | 1 | 754,500 | 823,277 | 137,213 | 137,225 | 823,350
* * * Total Estimated Revenue to be Collected |  |  | 313,305,285 | 341,814,783 |  |  | 342,998,994
* * * Total Revenue Requirement |  |  | 312,000,000 | 341,875,000 |  |  | 341,875,000
Difference |  |  | 1,305,285 | 39,783 |  |  | 1,123,994
¹ The FM Construction Permit revenues and the VHF and UHF Construction Permit revenues were adjusted to set the regulatory fee to an amount no higher than the lowest licensed fee for that class of service. The reductions in the FM Construction Permit revenues are offset by increases in the revenue totals for FM radio stations. Similarly, reductions in the VHF and UHF Construction Permit revenues are offset by increases in the revenue totals for VHF and UHF television stations, respectively.
² MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, paragraph 6 (2004).
³ The chart at the end of Appendix C lists the submarine cable bearer circuit regulatory fees (common and non-common carrier basis) that resulted from the adoption of the following proceedings: Assessment and Collection of Regulatory Fees for Fiscal Year 2008, Second Report and Order (MD Docket No. 08-65, RM-11312), released March 24, 2009; and Assessment and Collection of Regulatory Fees for Fiscal Year 2009 and Assessment and Collection of Regulatory Fees for Fiscal Year 2008, Notice of Proposed Rulemaking and Order (MD Docket No. 09-65, MD Docket No. 08-65), released on May 14, 2009.

Appendix C

FY 2009 Schedule of Regulatory Fees
[Regulatory fees for the categories shaded in gray are collected by the Commission in advance to cover the term of the license and are submitted along with the application at the time the application is filed]
Fee category | Annual regulatory fee (U.S. $'s)
PLMRS (per license) (Exclusive Use) (47 CFR part 90) | 40
Microwave (per license) (47 CFR part 101) | 30
218-219 MHz (Formerly Interactive Video Data Service) (per license) (47 CFR part 95) | 65
Marine (Ship) (per station) (47 CFR part 80) | 10
Marine (Coast) (per license) (47 CFR part 80) | 45
General Mobile Radio Service (per license) (47 CFR part 95) | 5
Rural Radio (47 CFR part 22) (previously listed under the Land Mobile category) | 20
PLMRS (Shared Use) (per license) (47 CFR part 90) | 20
Aviation (Aircraft) (per station) (47 CFR part 87) | 5
Aviation (Ground) (per license) (47 CFR part 87) | 10
Amateur Vanity Call Signs (per call sign) (47 CFR part 97) | 1.34
CMRS Mobile/Cellular Services (per unit) (47 CFR parts 20, 22, 24, 27, 80 and 90) | .18
CMRS Messaging Services (per unit) (47 CFR parts 20, 22, 24 and 90) | .08 320
Broadband Radio Service (formerly MMDS/MDS) (per license) (47 CFR part 21) Local Multipoint Distribution Service (per call sign) (47 CFR, part 101) | 320
AM Radio Construction Permits | 400
FM Radio Construction Permits | 650
TV (47 CFR part 73) VHF Commercial:
Markets 1-10 | 77,575
Markets 11-25 | 60,550
Markets 26-50 | 37,575
Markets 51-100 | 22,950
Remaining Markets | 5,950
Construction Permits | 5,950
TV (47 CFR part 73) UHF Commercial:
Markets 1-10 | 24,250
Markets 11-25 | 21,525
Markets 26-50 | 13,350
Markets 51-100 | 7,600
Remaining Markets | 1,950
Construction Permits | 1,950
Satellite Television Stations (All Markets) | 1,275
Construction Permits—Satellite Television Stations | 650
Low Power TV, Class A TV, TV/FM Translators & Boosters (47 CFR part 74) | 400
Broadcast Auxiliaries (47 CFR part 74) | 10
CARS (47 CFR part 78) | 260
Cable Television Systems (per subscriber) (47 CFR part 76) | .88
Interstate Telecommunication Service Providers (per revenue dollar) | .00342
Earth Stations (47 CFR part 25) | 210
Space Stations (per operational station in geostationary orbit) (47 CFR part 25) also includes DBS Service (per operational station) (47 CFR part 100) | 127,175
Space Stations (per operational system in non-geostationary orbit) (47 CFR part 25) | 137,225
International Bearer Circuits—Terrestrial/Satellites (per 64KB circuit) | .75
International Bearer Circuits—Submarine Cable | (¹)
¹ See table below.

FY 2009 Schedule of Regulatory Fees (Continued)
FY 2009 Radio Station Regulatory Fees: Population served | FY 2009 Radio Station Regulatory Fees: AM class A | FY 2009 Radio Station Regulatory Fees: AM class B | FY 2009 Radio Station Regulatory Fees: AM class C | FY 2009 Radio Station Regulatory Fees: AM class D | FY 2009 Radio Station Regulatory Fees: FM classes A, B1 & C3 | FY 2009 Radio Station Regulatory Fees: FM classes B, C, C0, C1 & C2
<= 25,000 | $675 | $550 | $500 | $575 | $650 | $825
25,001-75,000 | 1,350 | 1,075 | 750 | 875 | 1,325 | 1,450
75,001-150,000 | 2,025 | 1,350 | 1,000 | 1,450 | 1,825 | 2,725
150,001-500,000 | 3,050 | 2,300 | 1,500 | 1,725 | 2,800 | 3,550
500,001-1,200,000 | 4,400 | 3,500 | 2,500 | 2,875 | 4,450 | 5,225
1,200,001-3,000,00 | 6,750 | 5,400 | 3,750 | 4,600 | 7,250 | 8,350
> 3,000,000 | 8,100 | 6,475 | 4,750 | 5,750 | 9,250 | 10,850

FY 2009 Schedule of Regulatory Fees—International Bearer Circuits—Submarine Cable
Submarine cable systems (capacity as of December 31, 2008) | Fee amount | Address
< 2.5 Gbps | $15,075 | FCC, International, P.O. Box 979084, St. Louis, MO 63197-9000.
2.5 Gbps or greater, but less than 5 Gbps | 30,125 | FCC, International, P.O. Box 979084, St. Louis, MO 63197-9000.
5 Gbps or greater, but less than 10 Gbps | 60,250 | FCC, International, P.O. Box 979084, St. Louis, MO 63197-9000.
10 Gbps or greater, but less than 20 Gbps | 120,525 | FCC, International, P.O. Box 979084, St. Louis, MO 63197-9000.
20 Gbps or greater | 241,025 | FCC, International, P.O. Box 979084, St. Louis, MO 63197-9000.

Appendix D

Sources of Payment Unit Estimates for FY 2009

In order to calculate individual service fees for FY 2009, we adjusted FY 2008 payment units for each service to more accurately reflect expected FY 2009 payment liabilities. We obtained our updated estimates through a variety of means. For example, we used Commission licensee data bases, actual prior year payment records and industry and trade association projections when available. The databases we consulted include our Universal Licensing System (ULS), International Bureau Filing System (IBFS), Consolidated Database System (CDBS) and Cable Operations and Licensing System (COALS), as well as reports generated within the Commission such as the Wireline Competition Bureau's Trends in Telephone Service and the Wireless Telecommunications Bureau's Numbering Resource Utilization Forecast.

We tried to obtain verification for these estimates from multiple sources and, in all cases, we compared FY 2009 estimates with actual FY 2008 payment units to ensure that our revised estimates were reasonable. Where appropriate, we adjusted and/or rounded our final estimates to take into consideration the fact that certain variables that impact on the number of payment units cannot yet be estimated exactly. These include an unknown number of waivers and/or exemptions that may occur in FY 2009 and the fact that, in many services, the number of actual licensees or station operators fluctuates from time to time due to economic, technical, or other reasons. When we note, for example, that our estimated FY 2009 payment units are based on FY 2008 actual payment units, it does not necessarily mean that our FY 2009 projection is exactly the same number as FY 2008. We have either rounded the FY 2009 number or adjusted it slightly to account for these variables.

Fee category | Sources of payment unit estimates
Land Mobile (All), Microwave, 218-219 MHz, Marine (Ship & Coast), Aviation (Aircraft & Ground), GMRS, Amateur Vanity Call Signs, Domestic Public Fixed | Based on Wireless Telecommunications Bureau (WTB) projections of new applications and renewals taking into consideration existing Commission licensee data bases. Aviation (Aircraft) and Marine (Ship) estimates have been adjusted to take into consideration the licensing of portions of these services on a voluntary basis.
CMRS Cellular/Mobile Services | Based on WTB projection reports, and FY 08 payment data.
CMRS Messaging Services | Based on WTB reports, and FY 08 payment data.
AM/FM Radio Stations | Based on CDBS data, adjusted for exemptions, and actual FY 2008 payment units.
UHF/VHF Television Stations | Based on CDBS data, adjusted for exemptions, and actual FY 2008 payment units.
AM/FM/TV Construction Permits | Based on CDBS data, adjusted for exemptions, and actual FY 2008 payment units.
LPTV, Translators and Boosters, Class A Television | Based on CDBS data, adjusted for exemptions, and actual FY 2008 payment units.
Broadcast Auxiliaries | Based on actual FY 2008 payment units.
BRS (formerly MDS/MMDS) LMDS | Based on WTB reports and actual FY 2008 payment units. Based on WTB reports and actual FY 2008 payment units.
Cable Television Relay Service (CARS) Stations | Based on data from Media Bureau's COALS data base and actual FY 2008 payment units.
Cable Television System Subscribers | Based on publicly available data sources for estimated subscriber counts and actual FY 2008 payment units.
Interstate Telecommunication Service Providers | Based on FCC Form 499-Q data for the four quarters of calendar year 2008, the Wireline Competition Bureau projected the amount of calendar year 2008 revenue that will be reported on 2008 FCC Form 499-A worksheets in April 2009.
Earth Stations | Based on International Bureau (IB) licensing data and actual FY 2008 payment units.
Space Stations (GSOs & NGSOs) | Based on IB data reports and actual FY 2008 payment units.
International Bearer Circuits | Based on IB reports and submissions by licensees.
Submarine Cable Licenses | Based on IB license information.

Appendix E

Factors, Measurements, and Calculations That Go Into Determining Station Signal Contours and Associated Population Coverages

AM Stations

For stations with nondirectional daytime antennas, the theoretical radiation was used at all azimuths. For stations with directional daytime antennas, specific information on each day tower, including field ratio, phasing, spacing and orientation was retrieved, as well as the theoretical pattern root-mean-square of the radiation in all directions in the horizontal plane (RMS) figure milliVolt per meter (mV/m) @ 1 km) for the antenna system. The standard, or modified standard if pertinent, horizontal plane radiation pattern was calculated using techniques and methods specified in 73.150 and 73.152 of the Commission's rules.¹ Radiation values were calculated for each of 360 radials around the transmitter site. Next, estimated soil conductivity data was retrieved from a data base representing the information in FCC Figure R3.² Using the calculated horizontal radiation values, and the retrieved soil conductivity data, the distance to the principal community (5 mV/m) contour was predicted for each of the 360 radials. The resulting distance to principal community contours were used to form a geographical polygon. Population counting was accomplished by determining which 2,000 block centroids were contained in the polygon. (A block centroid is the center point of a small area containing population as computed by the U.S. Census Bureau.) The sum of the population figures for all enclosed blocks represents the total population for the predicted principal community coverage area.

¹ 47 CFR 73.150 and 73.152.

² See Map of Estimated Effective Ground Conductivity in the United States, 47 CFR 73.190 Figure R3.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials.³ The resulting distance to principal community contours were used to form a geographical polygon. Population counting was accomplished by determining which 2,000 block centroids were contained in the polygon. The sum of the population figures for all enclosed blocks represents the total population for the predicted principal community coverage area.

³ 47 CFR 73.313.

Appendix F

Final Regulatory Flexibility Analysis

1. As required by the Regulatory Flexibility Act (RFA),¹ the Commission prepared an Initial Regulatory Flexibility Analysis (IRFA) of the possible significant economic impact on small entities by the policies and rules proposed in its Notice of Proposed Rulemaking.² Written public comments were sought on the FY 2009 fees proposal, including comments on the IRFA. This present Final Regulatory Flexibility Analysis (FRFA) conforms to the RFA.³

¹ 5 U.S.C. 603. The RFA, 5 U.S.C. 601-612 has been amended by the Contract With America Advancement Act of 1996, Public Law 104-121, 110 Stat. 847 (1996) (CWAAA). Title II of the CWAAA is the Small Business Regulatory Enforcement Fairness Act of 1996 (SBREFA).

² See Assessment and Collection of Regulatory Fees for Fiscal Year 2009, MD Docket No. 09-65, Notice of Proposed Rulemaking and Order, (rel. May 14, 2009) (FY 2009 NPRM and Order).

³ 5 U.S.C. 604.

I. Need for, and Objectives of, the Report and Order

2. This rulemaking proceeding was initiated for the Commission to amend its Schedule of Regulatory Fees in the amount of $341,875,000, which is the amount that Congress has required the Commission to recover. The Commission seeks to collect the necessary amount through its revised Schedule of Regulatory Fees in the most efficient manner possible and without undue public burden.

II. Summary of Significant Issues Raised by Public Comments in Response to the IRFA

3. No parties have raised issues in response to the IRFA.

III. Description and Estimate of the Number of Small Entities to Which the Rules Will Apply

4. The RFA directs agencies to provide a description of, and where feasible, an estimate of the number of small entities that may be affected by the proposed rules and policies, if adopted.⁴ The RFA generally defines the term “small entity” as having the same meaning as the terms “small business,” “small organization,” and “small governmental jurisdiction.” ⁵ In addition, the term “small business” has the same meaning as the term “small business concern” under the Small Business Act.⁶ A “small business concern” is one which: (1) Is independently owned and operated; (2) is not dominant in its field of operation; and (3) satisfies any additional criteria established by the SBA.⁷

⁴ 5 U.S.C. 603(b)(3).

⁵ 5 U.S.C. 601(6).

⁶ 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁷ 15 U.S.C. 632.

5. Small Businesses. Nationwide, there are a total of approximately 27.2 million small businesses, according to the SBA.⁸

⁸ See SBA, Office of Advocacy, “Frequently Asked Questions,” http://web.sba.gov/faqs (accessed Jan. 2009).

6. Small Organizations. Nationwide, there are approximately 1.6 million small organizations.⁹

⁹ Independent Sector, The New Nonprofit Almanac & Desk Reference (2002).

7. Small Governmental Jurisdictions. The term “small governmental jurisdiction” is defined generally as “governments of cities, towns, townships, villages, school districts, or special districts, with a population of less than fifty thousand.” ¹⁰ Census Bureau data for 2002 indicate that there were 87,525 local governmental jurisdictions in the United States.¹¹ We estimate that, of this total, 84,377 entities were “small governmental jurisdictions.” ¹² Thus, we estimate that most governmental jurisdictions are small.

¹⁰ 5 U.S.C. 601(5).

¹¹ U.S. Census Bureau, Statistical Abstract of the United States: 2006, Section 8, p. 272, Table 415.

¹² We assume that the villages, school districts, and special districts are small, and total 48,558. See U.S. Census Bureau, Statistical Abstract of the United States: 2006, section 8, p. 273, Table 417. For 2002, Census Bureau data indicate that the total number of county, municipal, and township governments nationwide was 38,967, of which 35,819 were small. Id.

8. We have included small incumbent local exchange carriers in this present RFA analysis. As noted above, a “small business” under the RFA is one that, inter alia, meets the pertinent small business size standard (e.g., a telephone communications business having 1,500 or fewer employees), and “is not dominant in its field of operation.” ¹³ The SBA's Office of Advocacy contends that, for RFA purposes, small incumbent local exchange carriers are not dominant in their field of operation because any such dominance is not “national” in scope.¹⁴ We have therefore included small incumbent local exchange carriers in this RFA analysis, although we emphasize that this RFA action has no effect on Commission analyses and determinations in other, non-RFA contexts.

¹³ 15 U.S.C. 632.

¹⁴ Letter from Jere W. Glover, Chief Counsel for Advocacy, SBA, to William E. Kennard, Chairman, FCC (May 27, 1999). The Small Business Act contains a definition of “small-business concern,” which the RFA incorporates into its own definition of “small business.” See 15 U.S.C. 632(a) (Small Business Act); 5 U.S.C. 601(3) (RFA). SBA regulations interpret “small business concern” to include the concept of dominance on a national basis. See 13 CFR 121.102(b).

9. Incumbent Local Exchange Carriers (ILECs). Neither the Commission nor the SBA has developed a small business size standard specifically for incumbent local exchange services. The appropriate size standard under SBA rules is for the category Wired Telecommunications Carriers. Under that size standard, such a business is small if it has 1,500 or fewer employees.¹⁵ According to Commission data,¹⁶ 1,311 carriers have reported that they are engaged in the provision of incumbent local exchange services. Of these 1,311 carriers, an estimated 1,024 have 1,500 or fewer employees and 287 have more than 1,500 employees. Consequently, the Commission estimates that most providers of incumbent local exchange service are small businesses that may be affected by our proposed action.

¹⁵ 13 CFR 121.201, North American Industry Classification System (NAICS) code 517110.

¹⁶ FCC, Wireline Competition Bureau, Industry Analysis and Technology Division, “Trends in Telephone Service” at Table 5.3, Page 5-5 (Aug. 2008) (Trends in Telephone Service). This source uses data that are current as of November 1, 2006.

10. Competitive Local Exchange Carriers (CLECs), Competitive Access Providers (CAPs), “Shared-Tenant Service Providers,” and “Other Local Service Providers.” Neither the Commission nor the SBA has developed a small business size standard specifically for these service providers. The appropriate size standard under SBA rules is for the category Wired Telecommunications Carriers. Under that size standard, such a business is small if it has 1,500 or fewer employees.¹⁷ According to Commission data,¹⁸ 1005 carriers have reported that they are engaged in the provision of either competitive access provider services or competitive local exchange carrier services. Of these 1005 carriers, an estimated 918 have 1,500 or fewer employees and 87 have more than 1,500 employees. In addition, 16 carriers have reported that they are “Shared-Tenant Service Providers,” and all 16 are estimated to have 1,500 or fewer employees. In addition, 89 carriers have reported that they are “Other Local Service Providers.” Of the 89, all have 1,500 or fewer employees. Consequently, the Commission estimates that most providers of competitive local exchange service, competitive access providers, “Shared-Tenant Service Providers,” and “Other Local Service Providers” are small entities that may be affected by our proposed action.

¹⁷ 13 CFR 121.201, NAICS code 517110.

¹⁸ “Trends in Telephone Service” at Table 5.3.

11. Local Resellers. The SBA has developed a small business size standard for the category of Telecommunications Resellers. Under that size standard, such a business is small if it has 1,500 or fewer employees.¹⁹ According to Commission data,²⁰ 151 carriers have reported that they are engaged in the provision of local resale services. Of these, an estimated 149 have 1,500 or fewer employees and two have more than 1,500 employees. Consequently, the Commission estimates that the majority of local resellers are small entities that may be affected by our proposed action.

¹⁹ 13 CFR 121.201, NAICS code 517310.

²⁰ “Trends in Telephone Service” at Table 5.3.

12. Toll Resellers. The SBA has developed a small business size standard for the category of Telecommunications Resellers. Under that size standard, such a business is small if it has 1,500 or fewer employees.²¹ According to Commission data,²² 815 carriers have reported that they are engaged in the provision of toll resale services. Of these, an estimated 787 have 1,500 or fewer employees and 28 have more than 1,500 employees. Consequently, the Commission estimates that the majority of toll resellers are small entities that may be affected by our proposed action.

²¹ 13 CFR 121.201, NAICS code 517310.

²² “Trends in Telephone Service” at Table 5.3.

13. Payphone Service Providers (PSPs). Neither the Commission nor the SBA has developed a small business size standard specifically for payphone services providers. The appropriate size standard under SBA rules is for the category Wired Telecommunications Carriers. Under that size standard, such a business is small if it has 1,500 or fewer employees.²³ According to Commission data,²⁴ 526 carriers have reported that they are engaged in the provision of payphone services. Of these, an estimated 524 have 1,500 or fewer employees and two have more than 1,500 employees. Consequently, the Commission estimates that the majority of payphone service providers are small entities that may be affected by our proposed action.

²³ 3 CFR 121.201, NAICS code 517110.

²⁴ “Trends in Telephone Service” at Table 5.3.

14. Interexchange Carriers (IXCs). Neither the Commission nor the SBA has developed a small business size standard specifically for providers of interexchange services. The appropriate size standard under SBA rules is for the category Wired Telecommunications Carriers. Under that size standard, such a business is small if it has 1,500 or fewer employees.²⁵ According to Commission data,²⁶ 300 carriers have reported that they are engaged in the provision of interexchange service. Of these, an estimated 268 have 1,500 or fewer employees and 32 have more than 1,500 employees. Consequently, the Commission estimates that the majority of IXCs are small entities that may be affected by our proposed action.

²⁵ 13 CFR 121.201, NAICS code 517110.

²⁶ “Trends in Telephone Service” at Table 5.3.

15. Operator Service Providers (OSPs). Neither the Commission nor the SBA has developed a small business size standard specifically for operator service providers. The appropriate size standard under SBA rules is for the category Wired Telecommunications Carriers. Under that size standard, such a business is small if it has 1,500 or fewer employees.²⁷ According to Commission data,²⁸ 28 carriers have reported that they are engaged in the provision of operator services. Of these, an estimated 27 have 1,500 or fewer employees and one has more than 1,500 employees. Consequently, the Commission estimates that the majority of OSPs are small entities that may be affected by our proposed action.

²⁷ 13 CFR 121.201, NAICS code 517110.

²⁸ “Trends in Telephone Service” at Table 5.3.

16. Prepaid Calling Card Providers. Neither the Commission nor the SBA has developed a small business size standard specifically for prepaid calling card providers. The appropriate size standard under SBA rules is for the category Telecommunications Resellers. Under that size standard, such a business is small if it has 1,500 or fewer employees.²⁹ According to Commission data,³⁰ 88 carriers have reported that they are engaged in the provision of prepaid calling cards. Of these, an estimated 85 have 1,500 or fewer employees and three have more than 1,500 employees. Consequently, the Commission estimates that the majority of prepaid calling card providers are small entities that may be affected by our proposed action.

²⁹ 13 CFR 121.201, NAICS code 517310.

³⁰ “Trends in Telephone Service” at Table 5.3.

17. 800 and 800-Like Service Subscribers.³¹ Neither the Commission nor the SBA has developed a small business size standard specifically for 800 and 800-like service (toll free) subscribers. The appropriate size standard under SBA rules is for the category Telecommunications Resellers. Under that size standard, such a business is small if it has 1,500 or fewer employees.³² The most reliable source of information regarding the number of these service subscribers appears to be data the Commission receives from Database Service Management on the 800, 866, 877, and 888 numbers in use.³³ According to our data, at the end of December 2007, the number of 800 numbers assigned was 7,860,000; the number of 888 numbers assigned was 5,210,184; the number of 877 numbers assigned was 4,388,682; and the number of 866 numbers assigned was 7,029,116. We do not have data specifying the number of these subscribers that are independently owned and operated or have 1,500 or fewer employees, and thus are unable at this time to estimate with greater precision the number of toll free subscribers that would qualify as small businesses under the SBA size standard. Consequently, we estimate that there are 7,860,000 or fewer small entity 800 subscribers; 5,210,184 or fewer small entity 888 subscribers; 4,388,682 or fewer small entity 877 subscribers, and 7,029,116 or fewer entity 866 subscribers.

³¹ We include all toll-free number subscribers in this category.

³² 13 CFR 121.201, NAICS code 517310.

³³ “Trends in Telephone Service” at Tables 18.4, 18.5, 18.6, and 18.7.

18. Satellite Telecommunications and All Other Telecommunications. These two economic census categories address the satellite industry. The first category has a small business size standard of $15 million or less in average annual receipts, under SBA rules.³⁴ The second has a size standard of $25 million or less in annual receipts.³⁵ The most current Census Bureau data in this context, however, are from the (last) economic census of 2002, and we will use those figures to gauge the prevalence of small businesses in these categories.³⁶

³⁴ 13 CFR 121.201, NAICS code 517410.

³⁵ 13 CFR 121.201, NAICS code 517919.

³⁶ 13 CFR 121.201, NAICS codes 517410 and 517910 (2002).

19. The category of Satellite Telecommunications “comprises establishments primarily engaged in providing telecommunications services to other establishments in the telecommunications and broadcasting industries by forwarding and receiving communications signals via a system of satellites or reselling satellite telecommunications.” ³⁷ For this category, Census Bureau data for 2002 show that there were a total of 371 firms that operated for the entire year.³⁸ Of this total, 307 firms had annual receipts of under $10 million, and 26 firms had receipts of $10 million to $24,999,999.³⁹ Consequently, we estimate that the majority of Satellite Telecommunications firms are small entities that might be affected by our action.

³⁷ U.S. Census Bureau, 2007 NAICS Definitions, “517410 Satellite Telecommunications”; http://www.census.gov/naics/2007/def/ND517410.HTM.

³⁸ U.S. Census Bureau, 2002 Economic Census, Subject Series: Information, “Establishment and Firm Size (Including Legal Form of Organization),” Table 4, NAICS code 517410 (issued Nov. 2005).

³⁹ Id. An additional 38 firms had annual receipts of $25 million or more.

20. The second category of All Other Telecommunications comprises, inter alia, “establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems.” ⁴⁰ For this category, Census Bureau data for 2002 show that there were a total of 332 firms that operated for the entire year.⁴¹ Of this total, 303 firms had annual receipts of under $10 million and 15 firms had annual receipts of $10 million to $24,999,999.⁴² Consequently, we estimate that the majority of All Other Telecommunications firms are small entities that might be affected by our action.

⁴⁰ U.S. Census Bureau, 2007 NAICS Definitions, “517919 All Other Telecommunications”; http://www.census.gov/naics/2007/def/ND517919.HTM#N517919.

⁴¹ U.S. Census Bureau, 2002 Economic Census, Subject Series: Information, “Establishment and Firm Size (Including Legal Form of Organization),” Table 4, NAICS code 517910 (issued Nov. 2005).

⁴² Id. An additional 14 firms had annual receipts of $25 million or more.

21. Wireless Telecommunications Carriers (except Satellite). This category includes cellular, PCS, and certain SMR. Since 2007, the Census Bureau has placed wireless firms within this new, broad, economic census category.⁴³ Prior to that time, such firms were within the now-superseded categories of “Paging” and “Cellular and Other Wireless Telecommunications.” ⁴⁴ Under the present and prior categories, the SBA has deemed a wireless business to be small if it has 1,500 or fewer employees.⁴⁵ Because Census Bureau data are not yet available for the new category, we will estimate small business prevalence using the prior categories and associated data. For the category of Paging, data for 2002 show that there were 807 firms that operated for the entire year.⁴⁶ Of this total, 804 firms had employment of 999 or fewer employees, and three firms had employment of 1,000 employees or more.⁴⁷ For the category of Cellular and Other Wireless Telecommunications, data for 2002 show that there were 1,397 firms that operated for the entire year.⁴⁸ Of this total, 1,378 firms had employment of 999 or fewer employees, and 19 firms had employment of 1,000 employees or more.⁴⁹ Thus, we estimate that the majority of wireless firms are small.

⁴³ U.S. Census Bureau, 2007 NAICS Definitions, “517210 Wireless Telecommunications Categories (Except Satellite)”; http://www.census.gov/naics/2007/def/ND517210.HTM#N517210.

⁴⁴ U.S. Census Bureau, 2002 NAICS Definitions, “517211 Paging”; http://www.census.gov/epcd/naics02/def/NDEF517.HTM.; U.S. Census Bureau, 2002 NAICS Definitions, “517212 Cellular and Other Wireless Telecommunications”; http://www.census.gov/epcd/naics02/def/NDEF517.HTM.

⁴⁵ 13 CFR 121.201, NAICS code 517210 (2007 NAICS). The now-superseded, pre-2007 CFR citations were 13 CFR 121.201, NAICS codes 517211 and 517212 (referring to the 2002 NAICS).

⁴⁶ U.S. Census Bureau, 2002 Economic Census, Subject Series: Information, “Establishment and Firm Size (Including Legal Form of Organization,” Table 5, NAICS code 517211 (issued Nov. 2005).

⁴⁷ Id. The census data do not provide a more precise estimate of the number of firms that have employment of 1,500 or fewer employees; the largest category provided is for firms with “1000 employees or more.”

⁴⁸ U.S. Census Bureau, 2002 Economic Census, Subject Series: Information, “Establishment and Firm Size (Including Legal Form of Organization,” Table 5, NAICS code 517212 (issued Nov. 2005).

⁴⁹ Id. The census data do not provide a more precise estimate of the number of firms that have employment of 1,500 or fewer employees; the largest category provided is for firms with “1,000 employees or more.”

22. Internet Service Providers. The 2007 Economic Census places these providers, which includes voice over Internet protocol (VoIP) providers, in the category of All Other Telecommunications.⁵⁰ The SBA small business size standard for such firms is: Those having annual average receipts of $25 million or less.⁵¹ The most current Census Bureau data on such entities, however, are the 2002 data for the previous census category ⁵² called Internet Service Providers. The 2002 data show that there were 2,529 such firms that operated for the entire year.⁵³ Of those, 2,437 firms had annual receipts of under $10 million, and an additional 47 firms had receipts of between $10 million and $24,999,999.⁵⁴ Consequently, we estimate that the majority of ISP firms are small entities that may be affected by our action.

⁵⁰ U.S. Census Bureau, 2007 NAICS Definitions, “517919 All Other Telecommunications”; http://www.census.gov/naics/2007/def/ND517919.HTM#N517919.

⁵¹ 13 CFR 121.201, NAICS code 517919 (updated for inflation in 2008).

⁵² U.S. Census Bureau, “2002 NAICS Definitions: 518111 Internet Service Providers”; http://www.census.gov/epcd/naics02/def/NDEF518.HTM.

⁵³ U.S. Census Bureau, 2002 Economic Census, Subject Series: Information, “Establishment and Firm Size (Including Legal Form of Organization),” Table 4, NAICS code 518111 (issued Nov. 2005).

⁵⁴ An additional 45 firms had receipts of $25 million or more.

23. Common Carrier Paging. As noted, the SBA has developed a small business size standard for Wireless Telecommunications Carriers (except Satellite) firms within the broad economic census categories of “Cellular and Other Wireless Telecommunications.” ⁵⁵ Since 2007, the Census Bureau has placed wireless firms within this new, broad, economic census category.⁵⁶ Prior to that time, such firms were within the now-superseded categories of “Paging” and “Cellular and Other Wireless Telecommunications.” ⁵⁷ Under the present and prior categories, the SBA has deemed a wireless business to be small if it has 1,500 or fewer employees.⁵⁸ Because Census Bureau data are not yet available for the new category, we will estimate small business prevalence using the prior categories and associated data. For the category of Paging, data for 2002 show that there were 807 firms that operated for the entire year.⁵⁹ Of this total, 804 firms had employment of 999 or fewer employees, and three firms had employment of 1,000 employees or more.⁶⁰ For the category of Cellular and Other Wireless Telecommunications, data for 2002 show that there were 1,397 firms that operated for the entire year.⁶¹ Of this total, 1,378 firms had employment of 999 or fewer employees, and 19 firms had employment of 1,000 employees or more.⁶² Thus, we estimate that the majority of wireless firms are small.

⁵⁵ 13 CFR 121.201, NAICS code 517212.

⁵⁶ U.S. Census Bureau, 2007 NAICS Definitions, “517210 Wireless Telecommunications Categories (Except Satellite)”; http://www.census.gov/naics/2007/def/ND517210.HTM#N517210.

⁵⁷ U.S. Census Bureau, 2002 NAICS Definitions, “517211 Paging”; http://www.census.gov/epcd/naics02/def/NDEF517.HTM; U.S. Census Bureau, 2002 NAICS Definitions, “517212 Cellular and Other Wireless Telecommunications”; http://www.census.gov/epcd/naics02/def/NDEF517.HTM.

⁵⁸ 13 CFR 121.201, NAICS code 517210 (2007 NAICS). The now-superseded, pre-2007 CFR citations were 13 CFR 121.201, NAICS codes 517211 and 517212 (referring to the 2002 NAICS).

⁵⁹ U.S. Census Bureau, 2002 Economic Census, Subject Series: Information, “Establishment and Firm Size (Including Legal Form of Organization,” Table 5, NAICS code 517211 (issued Nov. 2005).

⁶⁰ Id. The census data do not provide a more precise estimate of the number of firms that have employment of 1,500 or fewer employees; the largest category provided is for firms with “1,000 employees or more.”

⁶¹ U.S. Census Bureau, 2002 Economic Census, Subject Series: Information, “Establishment and Firm Size (Including Legal Form of Organization,” Table 5, NAICS code 517212 (issued Nov. 2005).

⁶² Id. The census data do not provide a more precise estimate of the number of firms that have employment of 1,500 or fewer employees; the largest category provided is for firms with “1,000 employees or more.”

24. In addition, in the Paging Second Report and Order, the Commission adopted a size standard for “small businesses” for purposes of determining their eligibility for special provisions such as bidding credits and installment payments.⁶³ A small business is an entity that, together with its affiliates and controlling principals, has average gross revenues not exceeding $15 million for the preceding three years.⁶⁴ The SBA has approved this definition.⁶⁵ An auction of Metropolitan Economic Area (MEA) licenses commenced on February 24, 2000, and closed on March 2, 2000. Of the 2,499 licenses auctioned, 985 were sold.⁶⁶ Fifty-seven companies claiming small business status won 440 licenses.⁶⁷ An auction of MEA and Economic Area (EA) licenses commenced on October 30, 2001, and closed on December 5, 2001. Of the 15,514 licenses auctioned, 5,323 were sold.⁶⁸ One hundred thirty-two companies claiming small business status purchased 3,724 licenses. A third auction, consisting of 8,874 licenses in each of 175 EAs and 1,328 licenses in all but three of the 51 MEAs commenced on May 13, 2003, and closed on May 28, 2003. Seventy-seven bidders claiming small or very small business status won 2,093 licenses.⁶⁹

⁶³ Revision of Part 22 and Part 90 of the Commission's Rules to Facilitate Future Development of Paging Systems, Second Report and Order, 12 FCC Rcd 2732, 2811-2812, paras. 178-181 (Paging Second Report and Order); see also Revision of Part 22 and Part 90 of the Commission's Rules to Facilitate Future Development of Paging Systems, Memorandum Opinion and Order on Reconsideration, 14 FCC Rcd 10030, 10085-10088, paragraphs 98-107 (1999).

⁶⁴ Paging Second Report and Order, 12 FCC Rcd at 2811, paragraph 179.

⁶⁵ See Letter from Aida Alvarez, Administrator, SBA, to Amy Zoslov, Chief, Auctions and Industry Analysis Division, Wireless Telecommunications Bureau (“WTB”), FCC (Dec. 2, 1998) (Alvarez Letter 1998).

⁶⁶ See “929 and 931 MHz Paging Auction Closes,” Public Notice, 15 FCC Rcd 4858 (WTB 2000).

⁶⁷ See id.

⁶⁸ See “Lower and Upper Paging Band Auction Closes,” Public Notice, 16 FCC Rcd 21821 (WTB 2002).

⁶⁹ See “Lower and Upper Paging Bands Auction Closes,” Public Notice, 18 FCC Rcd 11154 (WTB 2003).

25. Currently, there are approximately 74,000 Common Carrier Paging licenses. According to the most recent Trends in Telephone Service, 281 carriers reported that they were engaged in the provision of “paging and messaging” services.⁷⁰ Of these, an estimated 279 have 1,500 or fewer employees and two have more than 1,500 employees.⁷¹ We estimate that the majority of common carrier paging providers would qualify as small entities under the SBA definition.

⁷⁰ “Trends in Telephone Service” at Table 5.3.

⁷¹ “Trends in Telephone Service” at Table 5.3.

26. Wireless Communications Services. This service can be used for fixed, mobile, radiolocation, and digital audio broadcasting satellite uses. The Commission defined “small business” for the wireless communications services (WCS) auction as an entity with average gross revenues of $40 million for each of the three preceding years, and a “very small business” as an entity with average gross revenues of $15 million for each of the three preceding years.⁷² The SBA has approved these definitions.⁷³ The Commission auctioned geographic area licenses in the WCS service. In the auction, which commenced on April 15, 1997 and closed on April 25, 1997, there were seven bidders that won 31 licenses that qualified as very small business entities, and one bidder that won one license that qualified as a small business entity.

⁷² Amendment of the Commission's Rules to Establish Part 27, the Wireless Communications Service (WCS), Report and Order, 12 FCC Rcd 10785, 10879, para. 194 (1997).

⁷³ See Alvarez Letter 1998.

27. 1670-1675 MHz Services. An auction for one license in the 1670-1675 MHz band commenced on April 30, 2003 and closed the same day. One license was awarded. The winning bidder was not a small entity.

28. Wireless Telephony. Wireless telephony includes cellular, personal communications services, and specialized mobile radio telephony carriers. As noted, the SBA has developed a small business size standard for Wireless Telecommunications Carriers (except Satellite).⁷⁴ Under the SBA small business size standard, a business is small if it has 1,500 or fewer employees.⁷⁵ According to Trends in Telephone Service data, 434 carriers reported that they were engaged in wireless telephony.⁷⁶ Of these, an estimated 222 have 1,500 or fewer employees and 212 have more than 1,500 employees.⁷⁷ We have estimated that 222 of these are small under the SBA small business size standard.

⁷⁴ 13 CFR 121.201, NAICS code 517210.

⁷⁵ Id.

⁷⁶ “Trends in Telephone Service” at Table 5.3.

⁷⁷ “Trends in Telephone Service” at Table 5.3.

29. Broadband Personal Communications Service. The broadband personal communications services (PCS) spectrum is divided into six frequency blocks designated A through F, and the Commission has held auctions for each block. The Commission has created a small business size standard for Blocks C and F as an entity that has average gross revenues of less than $40 million in the three previous calendar years.⁷⁸ For Block F, an additional small business size standard for “very small business” was added and is defined as an entity that, together with its affiliates, has average gross revenues of not more than $15 million for the preceding three calendar years.⁷⁹ These small business size standards, in the context of broadband PCS auctions, have been approved by the SBA.⁸⁰ No small businesses within the SBA-approved small business size standards bid successfully for licenses in Blocks A and B. There were 90 winning bidders that qualified as small entities in the Block C auctions. A total of 93 “small” and “very small” business bidders won approximately 40 percent of the 1,479 licenses for Blocks D, E, and F.⁸¹ On March 23, 1999, the Commission reauctioned 155 C, D, E, and F Block licenses; there were 113 small business winning bidders.⁸²

⁷⁸ See Amendment of Parts 20 and 24 of the Commission's Rules—Broadband PCS Competitive Bidding and the Commercial Mobile Radio Service Spectrum Cap, Report and Order, 11 FCC Rcd 7824, 7850-7852, paras. 57-60 (1996) (PCS Report and Order); see also 47 CFR 24.720(b).

⁷⁹ See PCS Report and Order, 11 FCC Rcd at 7852, para. 60.

⁸⁰ See Alvarez Letter 1998.

⁸¹ FCC News, “Broadband PCS, D, E and F Block Auction Closes,” No. 71744 (rel. Jan. 14, 1997).

⁸² See “C, D, E, and F Block Broadband PCS Auction Closes,” Public Notice, 14 FCC Rcd 6688 (WTB 1999).

30. On January 26, 2001, the Commission completed the auction of 422 C and F Broadband PCS licenses in Auction No. 35. Of the 35 winning bidders in this auction, 29 qualified as “small” or “very small” businesses.⁸³ Subsequent events, concerning Auction 35, including judicial and agency determinations, resulted in a total of 163 C and F Block licenses being available for grant. On February 15, 2005, the Commission completed an auction of 188 C block licenses and 21 F block licenses in Auction No. 58. There were 24 winning bidders for 217 licenses.⁸⁴ Of the 24 winning bidders, 16 claimed small business status and won 156 licenses. On May 21, 2007, the Commission completed an auction of 33 licenses in the A, C, and F Blocks in Auction No. 71.⁸⁵ Of the 14 winning bidders, six were designated entities.⁸⁶

⁸³ See “C and F Block Broadband PCS Auction Closes; Winning Bidders Announced,” Public Notice, 16 FCC Rcd 2339 (2001).

⁸⁴ See “Broadband PCS Spectrum Auction Closes; Winning Bidders Announced for Auction No. 58,” Public Notice, 20 FCC Rcd 3703 (2005).

⁸⁵ See “Auction of Broadband PCS Spectrum Licenses Closes; Winning Bidders Announced for Auction No. 71,” Public Notice, 22 FCC Rcd 9247 (2007).

⁸⁶ Id.

31. Narrowband Personal Communications Services. The Commission held an auction for Narrowband PCS licenses that commenced on July 25, 1994, and closed on July 29, 1994. A second auction commenced on October 26, 1994 and closed on November 8, 1994. For purposes of the first two Narrowband PCS auctions, “small businesses” were entities with average gross revenues for the prior three calendar years of $40 million or less.⁸⁷ Through these auctions, the Commission awarded a total of 41 licenses, 11 of which were obtained by four small businesses.⁸⁸ To ensure meaningful participation by small business entities in future auctions, the Commission adopted a two-tiered small business size standard in the Narrowband PCS Second Report and Order.⁸⁹ A “small business” is an entity that, together with affiliates and controlling interests, has average gross revenues for the three preceding years of not more than $40 million.⁹⁰ A “very small business” is an entity that, together with affiliates and controlling interests, has average gross revenues for the three preceding years of not more than $15 million.⁹¹ The SBA has approved these small business size standards.⁹² A third auction commenced on October 3, 2001 and closed on October 16, 2001. Here, five bidders won 317 (Metropolitan Trading Areas and nationwide) licenses.⁹³ Three of these claimed status as a small or very small entity and won 311 licenses.

⁸⁷ Implementation of Section 309(j) of the Communications Act—Competitive Bidding Narrowband PCS, Third Memorandum Opinion and Order and Further Notice of Proposed Rulemaking, 10 FCC Rcd 175, 196, para. 46 (1994).

⁸⁸ See “Announcing the High Bidders in the Auction of ten Nationwide Narrowband PCS Licenses, Winning Bids Total $617,006,674,” Public Notice, PNWL 94-004 (rel. Aug. 2, 1994); “Announcing the High Bidders in the Auction of 30 Regional Narrowband PCS Licenses; Winning Bids Total $490,901,787,” Public Notice, PNWL 94-27 (rel. Nov. 9, 1994).

⁸⁹ Amendment of the Commission's Rules to Establish New Personal Communications Services, Narrowband PCS, Second Report and Order and Second Further Notice of Proposed Rule Making, 15 FCC Rcd 10456, 10476, para. 40 (2000) (Narrowband PCS Second Report and Order).

⁹⁰ Narrowband PCS Second Report and Order, 15 FCC Rcd at 10476, para. 40.

⁹¹ Id.

⁹² See Alvarez Letter 1998.

⁹³ See “Narrowband PCS Auction Closes,” Public Notice, 16 FCC Rcd 18663 (WTB 2001).

32. Lower 700 MHz Band Licenses. The Commission previously adopted criteria for defining three groups of small businesses for purposes of determining their eligibility for special provisions such as bidding credits.⁹⁴ The Commission defined a “small business” as an entity that, together with its affiliates and controlling principals, has average gross revenues not exceeding $40 million for the preceding three years.⁹⁵ A “very small business” is defined as an entity that, together with its affiliates and controlling principals, has average gross revenues that are not more than $15 million for the preceding three years.⁹⁶ Additionally, the lower 700 MHz Service had a third category of small business status for Metropolitan/Rural Service Area (“MSA/RSA”) licenses. The third category is “entrepreneur,” which is defined as an entity that, together with its affiliates and controlling principals, has average gross revenues that are not more than $3 million for the preceding three years.⁹⁷ The SBA approved these small size standards.⁹⁸ An auction of 740 licenses (one license in each of the 734 MSAs/RSAs and one license in each of the six Economic Area Groupings (EAGs)) commenced on August 27, 2002, and closed on September 18, 2002. Of the 740 licenses available for auction, 484 licenses were sold to 102 winning bidders. Seventy-two of the winning bidders claimed small business, very small business or entrepreneur status and won a total of 329 licenses.⁹⁹ A second auction commenced on May 28, 2003, and closed on June 13, 2003, and included 256 licenses: 5 EAG licenses and 476 Cellular Market Area licenses.¹⁰⁰ Seventeen winning bidders claimed small or very small business status and won 60 licenses, and nine winning bidders claimed entrepreneur status and won 154 licenses.¹⁰¹ On July 26, 2005, the Commission completed an auction of 5 licenses in the Lower 700 MHz band (Auction No. 60). There were three winning bidders for five licenses. All three winning bidders claimed small business status.

⁹⁴ See Reallocation and Service Rules for the 698-746 MHz Spectrum Band (Television Channels 52-59), Report and Order, 17 FCC Rcd 1022 (2002) (Channels 52-59 Report and Order).

⁹⁵ See Channels 52-59 Report and Order, 17 FCC Rcd at 1087-88, paragraph 172.

⁹⁶ See id.

⁹⁷ See id., 17 FCC Rcd at 1088, paragraph 173.

⁹⁸ See Letter from Aida Alvarez, Administrator, SBA, to Thomas Sugrue, Chief, WTB, FCC (Aug. 10, 1999) (Alvarez Letter 1999).

⁹⁹ See “Lower 700 MHz Band Auction Closes,” Public Notice, 17 FCC Rcd 17272 (WTB 2002).

¹⁰⁰ See “Lower 700 MHz Band Auction Closes,” Public Notice, 18 FCC Rcd 11873 (WTB 2003).

¹⁰¹ See id.

33. The Commission recently reexamined its rules governing the 700 MHz band in the 700 MHz Second Report and Order.¹⁰² An auction of 700 MHz licenses commenced January 24, 2008. For the Lower 700 MHz band, 176 licenses over Economic Areas in the A Block, 734 licenses over Cellular Market Areas in the B Block, and 176 licenses over EAs in the E Block are available for licensing.¹⁰³ Winning bidders may be eligible for small business status (those with attributable average annual gross revenues that exceed $15 million and do not exceed $40 million for the preceding three years), or very small business status (those with attributable average annual gross revenues that do not exceed $15 million for the preceding three years).

¹⁰² Service Rules for the 698-746, 747-762 and 777-792 MHz Bands, WT Docket No. 06-150, Revision of the Commission's Rules to Ensure Compatibility with Enhanced 911 Emergency Calling Systems, CC Docket No. 94-102, Section 68.4(a) of the Commission's Rules Governing Hearing Aid-Compatible Telephones, WT Docket No. 01-309, Biennial Regulatory Review—Amendment of Parts 1, 22, 24, 27, and 90 to Streamline and Harmonize Various Rules Affecting Wireless Radio Services, WT Docket 03-264, Former Nextel Communications, Inc. Upper 700 MHz Guard Band Licenses and Revisions to Part 27 of the Commission's Rules, WT Docket No. 06-169, Implementing a Nationwide, Broadband, Interoperable Public Safety Network in the 700 MHz Band, PS Docket No. 06-229, Development of Operational, Technical and Spectrum Requirements for Meeting Federal, State and Local Public Safety Communications Requirements Through the Year 2010, WT Docket No. 96-86, Second Report and Order, FCC 07-132 (2007) (700 MHz Second Report and Order).

¹⁰³ See “Auction of 700 MHz Band Licenses Scheduled for January 16, 2008; Comment Sought on Competitive Bidding Procedures For Auction 73,” Public Notice, FCC Rcd 15004 (WTB 2007).

34. Upper 700 MHz Band Licenses. In the 700 MHz Second Report and Order, the Commission revised its rules regarding Upper 700 MHz licenses. On January 24, 2008, the Commission commenced Auction 73 in which several licenses in the Upper 700 MHz band are available for licensing: 12 licenses over Regional Economic Area Groupings (REAGs) in the C Block, and one nationwide license in the D Block.¹⁰⁴ Winning bidders may be eligible for small business status (those with attributable average annual gross revenues that exceed $15 million and do not exceed $40 million for the preceding three years), or very small business status (those with attributable average annual gross revenues that do not exceed $15 million for the preceding three years.

¹⁰⁴ See id.

35. 700 MHz Guard Band Licenses. In the 700 MHz Guard Band Order, the Commission adopted size standards for “small businesses” and “very small businesses” for purposes of determining their eligibility for special provisions such as bidding credits and installment payments.¹⁰⁵ A small business in this service is an entity that, together with its affiliates and controlling principals, has average gross revenues not exceeding $40 million for the preceding three years.¹⁰⁶ Additionally, a very small business is an entity that, together with its affiliates and controlling principals, has average gross revenues that are not more than $15 million for the preceding three years.¹⁰⁷ SBA approval of these definitions is not required.¹⁰⁸ An auction of 52 Major Economic Area (MEA) licenses commenced on September 6, 2000, and closed on September 21, 2000.¹⁰⁹ Of the 104 licenses auctioned, 96 licenses were sold to nine bidders. Five of these bidders were small businesses that won a total of 26 licenses. A second auction of 700 MHz Guard Band licenses commenced on February 13, 2001, and closed on February 21, 2001. All eight of the licenses auctioned were sold to three bidders. One of these bidders was a small business that won a total of two licenses.¹¹⁰

¹⁰⁵ See Service Rules for the 746-764 MHz Bands, and Revisions to Part 27 of the Commission's Rules, Second Report and Order, 15 FCC Rcd 5299 (2000) (746-764 MHz Band Second Report and Order).

¹⁰⁶ See 746-764 MHz Band Second Report and Order, 15 FCC Rcd at 5343, para. 108.

¹⁰⁷ See id.

¹⁰⁸ See id., 15 FCC Rcd 5299, 5343, para. 108 n.246 (for the 746-764 MHz and 776-794 MHz bands, the Commission is exempt from 15 U.S.C. 632, which requires Federal agencies to obtain SBA approval before adopting small business size standards).

¹⁰⁹ See “700 MHz Guard Bands Auction Closes: Winning Bidders Announced,” Public Notice, 15 FCC Rcd 18026 (2000).

¹¹⁰ See “700 MHz Guard Bands Auction Closes: Winning Bidders Announced,” Public Notice, 16 FCC Rcd 4590 (WTB 2001).

36. Specialized Mobile Radio. The Commission awards “small entity” bidding credits in auctions for Specialized Mobile Radio (SMR) geographic area licenses in the 800 MHz and 900 MHz bands to firms that had revenues of no more than $15 million in each of the three previous calendar years.¹¹¹ The Commission awards “very small entity” bidding credits to firms that had revenues of no more than $3 million in each of the three previous calendar years.¹¹² The SBA has approved these small business size standards for the 900 MHz Service.¹¹³ The Commission has held auctions for geographic area licenses in the 800 MHz and 900 MHz bands. The 900 MHz SMR auction began on December 5, 1995, and closed on April 15, 1996. Sixty bidders claiming that they qualified as small businesses under the $15 million size standard won 263 geographic area licenses in the 900 MHz SMR band. The 800 MHz SMR auction for the upper 200 channels began on October 28, 1997, and was completed on December 8, 1997. Ten bidders claiming that they qualified as small businesses under the $15 million size standard won 38 geographic area licenses for the upper 200 channels in the 800 MHz SMR band.¹¹⁴ A second auction for the 800 MHz band was held on January 10, 2002 and closed on January 17, 2002 and included 23 BEA licenses. One bidder claiming small business status won five licenses.¹¹⁵

¹¹¹ 47 CFR 90.814(b)(1).

¹¹² 47 CFR 90.814(b)(1).

¹¹³ See Alvarez Letter 1999.

¹¹⁴ See “Correction to Public Notice DA 96-586 `FCC Announces Winning Bidders in the Auction of 1020 Licenses to Provide 900 MHz SMR in Major Trading Areas,' ” Public Notice, 18 FCC Rcd 18367 (WTB 1996).

¹¹⁵ See “Multi-Radio Service Auction Closes,” Public Notice, 17 FCC Rcd 1446 (WTB 2002).

37. The auction of the 1,053 800 MHz SMR geographic area licenses for the General Category channels began on August 16, 2000, and was completed on September 1, 2000. Eleven bidders won 108 geographic area licenses for the General Category channels in the 800 MHz SMR band qualified as small businesses under the $15 million size standard.¹¹⁶ In an auction completed on December 5, 2000, a total of 2,800 Economic Area licenses in the lower 80 channels of the 800 MHz SMR service were awarded.¹¹⁷ Of the 22 winning bidders, 19 claimed small business status and won 129 licenses. Thus, combining all three auctions, 40 winning bidders for geographic licenses in the 800 MHz SMR band claimed status as small business.

¹¹⁶ See “800 MHz Specialized Mobile Radio (SMR) Service General Category (851-854 MHz) and Upper Band (861-865 MHz) Auction Closes; Winning Bidders Announced,” Public Notice, 15 FCC Rcd 17162 (2000).

¹¹⁷ See, “800 MHz SMR Service Lower 80 Channels Auction Closes; Winning Bidders Announced,” Public Notice, 16 FCC Rcd 1736 (2000).

38. In addition, there are numerous incumbent site-by-site SMR licensees and licensees with extended implementation authorizations in the 800 and 900 MHz bands. We do not know how many firms provide 800 MHz or 900 MHz geographic area SMR pursuant to extended implementation authorizations, nor how many of these providers have annual revenues of no more than $15 million. One firm has over $15 million in revenues. In addition, we do not know how many of these firms have 1500 or fewer employees.¹¹⁸ We assume, for purposes of this analysis, that all of the remaining existing extended implementation authorizations are held by small entities, as that small business size standard is approved by the SBA.

¹¹⁸ See generally 13 CFR 121.201, NAICS code 517210.

39. 220 MHz Radio Service—Phase I Licensees. The 220 MHz service has both Phase I and Phase II licenses. Phase I licensing was conducted by lotteries in 1992 and 1993. There are approximately 1,515 such non-nationwide licensees and four nationwide licensees currently authorized to operate in the 220 MHz band. The Commission has not developed a definition of small entities specifically applicable to such incumbent 220 MHz Phase I licensees. To estimate the number of such licensees that are small businesses, we apply the small business size standard under the SBA rules applicable to Wireless Telecommunications Carriers (except Satellite).¹¹⁹ This category provides that a small business is a wireless company employing no more than 1,500 persons.¹²⁰ The Commission estimates that most such licensees are small businesses under the SBA's small business standard.

¹¹⁹ Id.

¹²⁰ Id.

40. 220 MHz Radio Service—Phase II Licensees. The 220 MHz service has both Phase I and Phase II licenses. The Phase II 220 MHz service is a new service, and is subject to spectrum auctions. In the 220 MHz Third Report and Order, the Commission adopted a small business size standard for defining “small” and “very small” businesses for purposes of determining their eligibility for special provisions such as bidding credits and installment payments.¹²¹ This small business standard indicates that a “small business” is an entity that, together with its affiliates and controlling principals, has average gross revenues not exceeding $15 million for the preceding three years.¹²² A “very small business” is defined as an entity that, together with its affiliates and controlling principals, has average gross revenues that do not exceed $3 million for the preceding three years.¹²³ The SBA has approved these small size standards.¹²⁴ Auctions of Phase II licenses commenced on September 15, 1998, and closed on October 22, 1998.¹²⁵ In the first auction, 908 licenses were auctioned in three different-sized geographic areas: three nationwide licenses, 30 Regional Economic Area Group (EAG) Licenses, and 875 Economic Area (EA) Licenses. Of the 908 licenses auctioned, 693 were sold.¹²⁶ Thirty-nine small businesses won 373 licenses in the first 220 MHz auction. A second auction included 225 licenses: 216 EA licenses and 9 EAG licenses. Fourteen companies claiming small business status won 158 licenses.¹²⁷ A third auction included four licenses: 2 BEA licenses and 2 EAG licenses in the 220 MHz Service. No small or very small business won any of these licenses.¹²⁸ The Commission conducted a fourth auction in 2007 with three of the five winning bidders claiming small or very small business status.¹²⁹

¹²¹ Amendment of Part 90 of the Commission's Rules to Provide For the Use of the 220-222 MHz Band by the Private Land Mobile Radio Service, Third Report and Order, 12 FCC Rcd 10943, 11068-70, paras. 291-295 (1997).

¹²² Id. at 11068, para. 291.

¹²³ Id.

¹²⁴ See Letter from Aida Alvarez, Administrator, SBA, to Daniel Phythyon, Chief, WTB, FCC (Jan. 6, 1998) (Alvarez to Phythyon Letter 1998).

¹²⁵ See generally “220 MHz Service Auction Closes,” Public Notice, 14 FCC Rcd 605 (1998).

¹²⁶ See “FCC Announces It is Prepared to Grant 654 Phase II 220 MHz Licenses After Final Payment is Made,” Public Notice, 14 FCC Rcd 1085 (1999).

¹²⁷ See “Phase II 220 MHz Service Spectrum Auction Closes,” Public Notice, 14 FCC Rcd 11218 (1999).

¹²⁸ See “Multi-Radio Service Auction Closes,” Public Notice, 17 FCC Rcd 1446 (2002).

¹²⁹ See “Auction of Phase II 220 MHz Service Spectrum Licenses Closes,” Public Notice, 22 FCC Rcd 11573 (WTB 2007).

41. Private Land Mobile Radio (PLMR). PLMR systems serve an essential role in a range of industrial, business, land transportation, and public safety activities. These radios are used by companies of all sizes operating in all U.S. business categories, and are often used in support of the licensee's primary (non-telecommunications) business operations. For the purpose of determining whether a licensee of a PLMR system is a small business as defined by the SBA, we use the broad census category, Wireless Telecommunications Carriers (except Satellite). This definition provides that a small entity is any such entity employing no more than 1,500 persons.¹³⁰ The Commission does not require PLMR licensees to disclose information about number of employees, so the Commission does not have information that could be used to determine how many PLMR licensees constitute small entities under this definition. We note that PLMR licensees generally use the licensed facilities in support of other business activities, and therefore, it would also be helpful to assess PLMR licensees under the standards applied to the particular industry subsector to which the licensee belongs.¹³¹

¹³⁰ See 13 CFR 121.201, NAICS code 517210.

¹³¹ See generally 13 CFR 121.201.

42. The Commission's 1994 Annual Report on PLMRs ¹³² indicates that at the end of fiscal year 1994, there were 1,087,267 licensees operating 12,481,989 transmitters in the PLMR bands below 512 MHz. We note that any entity engaged in a commercial activity is eligible to hold a PLMR license, and that the revised rules in this context could therefore potentially impact small entities covering a great variety of industries.

¹³² Federal Communications Commission, 60th Annual Report, Fiscal Year 1994, at paragraph 116.

43. Fixed Microwave Services. Fixed microwave services include common carrier,¹³³ private operational-fixed,¹³⁴ and broadcast auxiliary radio services.¹³⁵ At present, there are approximately 22,015 common carrier fixed licensees and 61,670 private operational-fixed licensees and broadcast auxiliary radio licensees in the microwave services. The Commission has not created a size standard for a small business specifically with respect to fixed microwave services. For purposes of this analysis, the Commission uses the SBA small business size standard for the category Wireless Telecommunications Carriers (except Satellite), which is 1,500 or fewer employees.¹³⁶ The Commission does not have data specifying the number of these licensees that have no more than 1,500 employees, and thus are unable at this time to estimate with greater precision the number of fixed microwave service licensees that would qualify as small business concerns under the SBA's small business size standard. Consequently, the Commission estimates that there are 22,015 or fewer common carrier fixed licensees and 61,670 or fewer private operational-fixed licensees and broadcast auxiliary radio licensees in the microwave services that may be small and may be affected by the rules and policies proposed herein. We note, however, that the common carrier microwave fixed licensee category includes some large entities.

¹³³ See 47 CFR 101 et seq. for common carrier fixed microwave services (except Multipoint Distribution Service).

¹³⁴ Persons eligible under parts 80 and 90 of the Commission's Rules can use Private Operational-Fixed Microwave services. See 47 CFR Parts 80 and 90. Stations in this service are called operational-fixed to distinguish them from common carrier and public fixed stations. Only the licensee may use the operational-fixed station, and only for communications related to the licensee's commercial, industrial, or safety operations.

¹³⁵ Auxiliary Microwave Service is governed by Part 74 of Title 47 of the Commission's rules. See 47 CFR Part 74. This service is available to licensees of broadcast stations and to broadcast and cable network entities. Broadcast auxiliary microwave stations are used for relaying broadcast television signals from the studio to the transmitter, or between two points such as a main studio and an auxiliary studio. The service also includes mobile television pickups, which relay signals from a remote location back to the studio.

¹³⁶ 13 CFR 121.201, NAICS code 517210.

44. 39 GHz Service. The Commission created a special small business size standard for 39 GHz licenses—an entity that has average gross revenues of $40 million or less in the three previous calendar years.¹³⁷ An additional size standard for “very small business” is: An entity that, together with affiliates, has average gross revenues of not more than $15 million for the preceding three calendar years.¹³⁸ The SBA has approved these small business size standards.¹³⁹ The auction of the 2,173 39 GHz licenses began on April 12, 2000 and closed on May 8, 2000. The 18 bidders who claimed small business status won 849 licenses.

¹³⁷ See Amendment of the Commission's Rules Regarding the 37.0-38.6 GHz and 38.6-40.0 GHz Bands, ET Docket No. 95-183, Report and Order, 12 FCC Rcd 18600 (1997).

¹³⁸ Id.

¹³⁹ See Letter from Aida Alvarez, Administrator, SBA, to Kathleen O'Brien Ham, Chief, Auctions and Industry Analysis Division, WTB, FCC (Feb. 4, 1998); See Letter from Hector Barreto, Administrator, SBA, to Margaret Wiener, Chief, Auctions and Industry Analysis Division, WTB, FCC (Jan. 18, 2002).

45. Local Multipoint Distribution Service. Local Multipoint Distribution Service (LMDS) is a fixed broadband point-to-multipoint microwave service that provides for two-way video telecommunications.¹⁴⁰ The auction of the 986 LMDS licenses began on February 18, 1998 and closed on March 25, 1998. The Commission established a small business size standard for LMDS licenses as an entity that has average gross revenues of less than $40 million in the three previous calendar years.¹⁴¹ An additional small business size standard for “very small business” was added as an entity that, together with its affiliates, has average gross revenues of not more than $15 million for the preceding three calendar years.¹⁴² The SBA has approved these small business size standards in the context of LMDS auctions.¹⁴³ There were 93 winning bidders that qualified as small entities in the LMDS auctions. A total of 93 small and very small business bidders won approximately 277 A Block licenses and 387 B Block licenses. On March 27, 1999, the Commission re-auctioned 161 licenses; there were 32 small and very small businesses winning that won 119 licenses.

¹⁴⁰ See Rulemaking to Amend Parts 1, 2, 21, 25, of the Commission's Rules to Redesignate the 27.5-29.5 GHz Frequency Band, Reallocate the 29.5-30.5 Frequency Band, to Establish Rules and Policies for Local Multipoint Distribution Service and for Fixed Satellite Services, Second Report and Order, Order on Reconsideration, and Fifth Notice of Proposed Rule Making, 12 FCC Rcd 12545, 12689-90, paragraph 348 (1997) (LMDS Second Report and Order).

¹⁴¹ See LMDS Second Report and Order, 12 FCC Rcd at 12689-90, paragraph 348.

¹⁴² See id.

¹⁴³ See Alvarez to Phythyon Letter 1998.

46. 218-219 MHz Service. The first auction of 218-219 MHz (previously referred to as the Interactive and Video Data Service or IVDS) spectrum resulted in 178 entities winning licenses for 594 Metropolitan Statistical Areas (MSAs).¹⁴⁴ Of the 594 licenses, 567 were won by 167 entities qualifying as a small business. For that auction, the Commission defined a small business as an entity that, together with its affiliates, has no more than a $6 million net worth and, after federal income taxes (excluding any carry over losses), has no more than $2 million in annual profits each year for the previous two years.¹⁴⁵ In the 218-219 MHz Report and Order and Memorandum Opinion and Order, we defined a small business as an entity that, together with its affiliates and persons or entities that hold interests in such an entity and their affiliates, has average annual gross revenues not exceeding $15 million for the preceding three years.¹⁴⁶ A very small business is defined as an entity that, together with its affiliates and persons or entities that hold interests in such an entity and its affiliates, has average annual gross revenues not exceeding $3 million for the preceding three years.¹⁴⁷ The SBA has approved of these definitions.¹⁴⁸ A subsequent auction is not yet scheduled. Given the success of small businesses in the previous auction, and the prevalence of small businesses in the subscription television services and message communications industries, we assume for purposes of this analysis that in future auctions, many, and perhaps most, of the licenses may be awarded to small businesses.

¹⁴⁴ See “Interactive Video and Data Service (IVDS) Applications Accepted for Filing,” Public Notice, 9 FCC Rcd 6227 (1994).

¹⁴⁵ Implementation of Section 309(j) of the Communications Act—Competitive Bidding, Fourth Report and Order, 9 FCC Rcd 2330 (1994).

¹⁴⁶ Amendment of Part 95 of the Commission's Rules to Provide Regulatory Flexibility in the 218-219 MHz Service, Report and Order and Memorandum Opinion and Order, 15 FCC Rcd 1497 (1999).

¹⁴⁷ Id.

¹⁴⁸ See Alvarez to Phythyon Letter 1998.

47. Location and Monitoring Service (LMS). Multilateration LMS systems use non-voice radio techniques to determine the location and status of mobile radio units. For purposes of auctioning LMS licenses, the Commission has defined “small business” as an entity that, together with controlling interests and affiliates, has average annual gross revenues for the preceding three years not exceeding $15 million.¹⁴⁹ A “very small business” is defined as an entity that, together with controlling interests and affiliates, has average annual gross revenues for the preceding three years not exceeding $3 million.¹⁵⁰ These definitions have been approved by the SBA.¹⁵¹ An auction for LMS licenses commenced on February 23, 1999, and closed on March 5, 1999. Of the 528 licenses auctioned, 289 licenses were sold to four small businesses.

¹⁴⁹ Amendment of Part 90 of the Commission's Rules to Adopt Regulations for Automatic Vehicle Monitoring Systems, Second Report and Order, 13 FCC Rcd 15182, 15192, paragraph 20 (1998) (Automatic Vehicle Monitoring Systems Second Report and Order); see also 47 CFR 90.1103.

¹⁵⁰ Automatic Vehicle Monitoring Systems Second Report and Order, 13 FCC Rcd at 15192, para. 20; see also 47 CFR 90.1103.

¹⁵¹ See Alvarez Letter 1998.

48. Rural Radiotelephone Service. The Commission has not adopted a size standard for small businesses specific to the Rural Radiotelephone Service.¹⁵² A significant subset of the Rural Radiotelephone Service is the Basic Exchange Telephone Radio System (BETRS).¹⁵³ In the present context, we will use the SBA's small business size standard applicable to Wireless Telecommunications Carriers (except Satellite), i.e., an entity employing no more than 1,500 persons.¹⁵⁴ There are approximately 1,000 licensees in the Rural Radiotelephone Service, and the Commission estimates that there are 1,000 or fewer small entity licensees in the Rural Radiotelephone Service that may be affected by the rules and policies proposed herein.

¹⁵² The service is defined in section 22.99 of the Commission's rules, 47 CFR 22.99.

¹⁵³ BETRS is defined in 22.757 and 22.759 of the Commission's rules, 47 CFR 22.757 and 22.759.

¹⁵⁴ 13 CFR 121.201, NAICS code 517210.

49. Air-Ground Radiotelephone Service.¹⁵⁵ The Commission has previously used the SBA's small business definition applicable to Wireless Telecommunications Carriers (except Satellite), i.e., an entity employing no more than 1,500 persons.¹⁵⁶ There are approximately 100 licensees in the Air-Ground Radiotelephone Service, and under that definition, we estimate that almost all of them qualify as small entities under the SBA definition. For purposes of assigning Air-Ground Radiotelephone Service licenses through competitive bidding, the Commission has defined “small business” as an entity that, together with controlling interests and affiliates, has average annual gross revenues for the preceding three years not exceeding $40 million.¹⁵⁷ A “very small business” is defined as an entity that, together with controlling interests and affiliates, has average annual gross revenues for the preceding three years not exceeding $15 million.¹⁵⁸ These definitions were approved by the SBA.¹⁵⁹ In May 2006, the Commission completed an auction of nationwide commercial Air-Ground Radiotelephone Service licenses in the 800 MHz band (Auction No. 65). On June 2, 2006, the auction closed with two winning bidders winning two Air-Ground Radiotelephone Services licenses. Neither of the winning bidders claimed small business status.

¹⁵⁵ The service is defined in section 22.99 of the Commission's rules, 47 CFR 22.99.

¹⁵⁶ 13 CFR 121.201, NAICS codes 517210.

¹⁵⁷ Amendment of Part 22 of the Commission's Rules to Benefit the Consumers of Air-Ground Telecommunications Services, Biennial Regulatory Review—Amendment of Parts 1, 22, and 90 of the Commission's Rules, Amendment of Parts 1 and 22 of the Commission's Rules to Adopt Competitive Bidding Rules for Commercial and General Aviation Air-Ground Radiotelephone Service, WT Docket Nos. 03-103 and 05-42, Order on Reconsideration and Report and Order, 20 FCC Rcd 19663, paragraphs 28-42 (2005).

¹⁵⁸ Id.

¹⁵⁹ See Letter from Hector V. Barreto, Administrator, SBA, to Gary D. Michaels, Deputy Chief, Auctions and Spectrum Access Division, WTB, FCC (Sept. 19, 2005).

50. Aviation and Marine Radio Services. There are approximately 26,162 aviation, 34,555 marine (ship), and 3,296 marine (coast) licensees.¹⁶⁰ The Commission has not developed a small business size standard specifically applicable to all licensees. For purposes of this analysis, we will use the SBA small business size standard for the category Wireless Telecommunications Carriers (except Satellite), which is 1,500 or fewer employees.¹⁶¹ We are unable to determine how many of those licensed fall under this standard. For purposes of our evaluations in this analysis, we estimate that there are up to approximately 62,969 licensees that are small businesses under the SBA standard.¹⁶² In December 1998, the Commission held an auction of 42 VHF Public Coast licenses in the 157.1875-157.4500 MHz (ship transmit) and 161.775-162.0125 MHz (coast transmit) bands. For this auction, the Commission defined a “small” business as an entity that, together with controlling interests and affiliates, has average gross revenues for the preceding three years not to exceed $15 million dollars. In addition, a “very small” business is one that, together with controlling interests and affiliates, has average gross revenues for the preceding three years not to exceed $3 million dollars.¹⁶³ Further, the Commission made available Automated Maritime Telecommunications System (AMTS) licenses in Auctions 57 and 61.¹⁶⁴ Winning bidders could claim status as a very small business or a very small business. A very small business for this service is defined as an entity with attributed average annual gross revenues that do not exceed $3 million for the preceding three years, and a small business is defined as an entity with attributed average annual gross revenues of more than $3 million but less than $15 million for the preceding three years.¹⁶⁵ Three of the winning bidders in Auction 57 qualified as small or very small businesses, while three winning entities in Auction 61 qualified as very small businesses.

¹⁶⁰ Vessels that are not required by law to carry a radio and do not make international voyages or communications are not required to obtain an individual license. See Amendment of Parts 80 and 87 of the Commission's rules to Permit Operation of Certain Domestic Ship and Aircraft Radio Stations Without Individual Licenses, Report and Order, WT Docket No. 96-82, 11 FCC Rcd 14849 (1996).

¹⁶¹ 13 CFR 121.201, NAICS code 517210.

¹⁶² A licensee may have a license in more than one category.

¹⁶³ Amendment of the Commission's Rules Concerning Maritime Communications, PR Docket No. 92-257, Third Report and Order and Memorandum Opinion and Order, 13 FCC Rcd 19853 (1998).

¹⁶⁴ See “Automated Maritime Telecommunications System Spectrum Auction Scheduled for September 15, 2004, Notice and Filing Requirements, Minimum Opening Bids, Upfront Payments and Other Auction Procedures,” Public Notice, 19 FCC Rcd 9518 (WTB 2004); “Auction of Automated Maritime Telecommunications System Licenses Scheduled for August 3, 2005, Notice and Filing Requirements, Minimum Opening Bids, Upfront Payments and Other Auction Procedures for Auction No. 61,” Public Notice, 20 FCC Rcd 7811 (WTB 2005).

¹⁶⁵ 47 CFR 80.1252.

51. Offshore Radiotelephone Service. This service operates on several ultra high frequencies (UHF) television broadcast channels that are not used for television broadcasting in the coastal areas of states bordering the Gulf of Mexico.¹⁶⁶ There is presently 1 licensee in this service. We do not have information whether that licensee would qualify as small under the SBA's small business size standard for Wireless Telecommunications Carriers (except Satellite) services.¹⁶⁷ Under that SBA small business size standard, a business is small if it has 1,500 or fewer employees.¹⁶⁸

¹⁶⁶ This service is governed by Subpart I of Part 22 of the Commission's rules. See 47 CFR 22.1001-22.1037.

¹⁶⁷ 13 CFR 121.201, NAICS code 517210.

¹⁶⁸ Id.

52. Multiple Address Systems (MAS). Entities using MAS spectrum, in general, fall into two categories: (1) Those using the spectrum for profit-based uses, and (2) those using the spectrum for private internal uses. With respect to the first category, the Commission defines “small entity” for MAS licenses as an entity that has average gross revenues of less than $15 million in the three previous calendar years.¹⁶⁹ “Very small business” is defined as an entity that, together with its affiliates, has average gross revenues of not more than $3 million for the preceding three calendar years.¹⁷⁰ The SBA has approved of these definitions.¹⁷¹ The majority of these entities will most likely be licensed in bands where the Commission has implemented a geographic area licensing approach that would require the use of competitive bidding procedures to resolve mutually exclusive applications. The Commission's licensing database indicates that, as of January 20, 1999, there were a total of 8,670 MAS station authorizations. Of these, 260 authorizations were associated with common carrier service. In addition, an auction for 5,104 MAS licenses in 176 EAs began November 14, 2001, and closed on November 27, 2001.¹⁷² Seven winning bidders claimed status as small or very small businesses and won 611 licenses. On May 18, 2005, the Commission completed an auction (Auction No. 59) of 4,226 MAS licenses in the Fixed Microwave Services from the 928/959 and 932/941 MHz bands. Twenty-six winning bidders won a total of 2,323 licenses. Of the 26 winning bidders in this auction, five claimed small business status and won 1,891 licenses.

¹⁶⁹ See Amendment of the Commission's Rules Regarding Multiple Address Systems, Report and Order, 15 FCC Rcd 11956, 12008, paragraph 123 (2000).

¹⁷⁰ Id.

¹⁷¹ See Alvarez Letter 1999.

¹⁷² See “Multiple Address Systems Spectrum Auction Closes,” Public Notice, 16 FCC Rcd 21011 (2001).

53. With respect to the second category, which consists of entities that use, or seek to use, MAS spectrum to accommodate internal communications needs, we note that MAS serves an essential role in a range of industrial, safety, business, and land transportation activities. MAS radios are used by companies of all sizes, operating in virtually all U.S. business categories, and by all types of public safety entities. For the majority of private internal users, the small business size standard developed by the SBA would be more appropriate. The applicable size standard in this instance appears to be that of Wireless Telecommunications Carriers (except Satellite). This definition provides that a small entity is any such entity employing no more than 1,500 persons.¹⁷³ The Commission's licensing database indicates that, as of January 20, 1999, of the 8,670 total MAS station authorizations, 8,410 authorizations were for private radio service, and of these, 1,433 were for private land mobile radio service.

¹⁷³ See 13 CFR 121.201, NAICS code 517210.

54. 1.4 GHz Band Licensees. The Commission conducted an auction of 64 1.4 GHz band licenses, beginning on February 7, 2007,¹⁷⁴ and closing on March 8, 2007.¹⁷⁵ In that auction, the Commission defined “small business” as an entity that, together with its affiliates and controlling interests, had average gross revenues that exceed $15 million but do not exceed $40 million for the preceding three years, and a “very small business” as an entity that, together with its affiliates and controlling interests, has had average annual gross revenues not exceeding $15 million for the preceding three years.¹⁷⁶ Neither of the two winning bidders sought designated entity status.¹⁷⁷

¹⁷⁴ See “Auction of 1.4 GHz Bands Licenses Scheduled for February 7, 2007,” Public Notice, 21 FCC Rcd 12393 (WTB 2006).

¹⁷⁵ See “Auction of 1.4 GHz Band Licenses Closes; Winning Bidders Announced for Auction No. 69,” Public Notice, 22 FCC Rcd 4714 (2007) (Auction No. 69 Closing PN).

¹⁷⁶ Auction No. 69 Closing PN, Attachment C.

¹⁷⁷ See Auction No. 69 Closing PN.

55. Incumbent 24 GHz Licensees. This analysis may affect incumbent licensees who were relocated to the 24 GHz band from the 18 GHz band, and applicants who wish to provide services in the 24 GHz band. The applicable SBA small business size standard is that of Wireless Telecommunications Carriers (except Satellite). This category provides that such a company is small if it employs no more than 1,500 persons.¹⁷⁸ The broader census data notwithstanding, we believe that there are only two licensees in the 24 GHz band that were relocated from the 18 GHz band, Teligent ¹⁷⁹ and TRW, Inc. It is our understanding that Teligent and its related companies have fewer than 1,500 employees, though this may change in the future. TRW is not a small entity. There are approximately 122 licensees in the Rural Radiotelephone Service, and the Commission estimates that there are 122 or fewer small entity licensees in the Rural Radiotelephone Service that may be affected by the rules and policies proposed herein.

¹⁷⁸ 13 CFR 121.201, NAICS code 517210.

¹⁷⁹ Teligent acquired the DEMS licenses of FirstMark, the only licensee other than TRW in the 24 GHz band whose license has been modified to require relocation to the 24 GHz band.

56. Future 24 GHz Licensees. With respect to new applicants in the 24 GHz band, we have defined “small business” as an entity that, together with controlling interests and affiliates, has average annual gross revenues for the three preceding years not exceeding $15 million.¹⁸⁰ “Very small business” in the 24 GHz band is defined as an entity that, together with controlling interests and affiliates, has average gross revenues not exceeding $3 million for the preceding three years.¹⁸¹ The SBA has approved these definitions.¹⁸² The Commission will not know how many licensees will be small or very small businesses until the auction, if required, is held.

¹⁸⁰ Amendments to Parts 1, 2, 87 and 101 of the Commission's Rules To License Fixed Services at 24 GHz, Report and Order, 15 FCC Rcd 16934, 16967, paragraph 77 (2000) (24 GHz Report and Order); see also 47 CFR 101.538(a)(2).

¹⁸¹ 24 GHz Report and Order, 15 FCC Rcd at 16967, para. 77; see also 47 CFR 101.538(a)(1).

¹⁸² See Letter from Gary M. Jackson, Assistant Administrator, SBA, to Margaret W. Wiener, Deputy Chief, Auctions and Industry Analysis Division, WTB, FCC (July 28, 2000).

57. Broadband Radio Service. Broadband Radio Service systems, previously referred to as Multipoint Distribution Service (MDS) and Multichannel Multipoint Distribution Service (MMDS) systems, and “wireless cable,” transmit video programming to subscribers and provide two-way high speed data operations using the microwave frequencies of the Broadband Radio Service (BRS) and Educational Broadband Service (EBS) (previously referred to as the Instructional Television Fixed Service (ITFS)).¹⁸³ In connection with the 1996 BRS auction, the Commission established a small business size standard as an entity that had annual average gross revenues of no more than $40 million in the previous three calendar years.¹⁸⁴ The BRS auctions resulted in 67 successful bidders obtaining licensing opportunities for 493 Basic Trading Areas (BTAs). Of the 67 auction winners, 61 met the definition of a small business. BRS also includes licensees of stations authorized prior to the auction. At this time, we estimate that of the 61 small business BRS auction winners, 48 remain small business licensees. In addition to the 48 small businesses that hold BTA authorizations, there are approximately 392 incumbent BRS licensees that are considered small entities.¹⁸⁵ After adding the number of small business auction licensees to the number of incumbent licensees not already counted, we find that there are currently approximately 440 BRS licensees that are defined as small businesses under either the SBA or the Commission's rules.

¹⁸³ Amendment of Parts 21 and 74 of the Commission's Rules with Regard to Filing Procedures in the Multipoint Distribution Service and in the Instructional Television Fixed Service and Implementation of Section 309(j) of the Communications Act—Competitive Bidding, MM Docket No. 94-131 and PP Docket No. 93-253, Report and Order, 10 FCC Rcd 9589, 9593, paragraph 7 (1995) (MDS Auction R&O).

¹⁸⁴ 47 CFR 21.961(b)(1).

¹⁸⁵ 47 U.S.C. 309(j). Hundreds of stations were licensed to incumbent MDS licensees prior to implementation of Section 309(j) of the Communications Act of 1934, 47 U.S.C. 309(j). For these pre-auction licenses, the applicable standard is SBA's small business size standard.

58. In addition, the SBA's Cable Television Distribution Services small business size standard is applicable to EBS. There are presently 2,032 EBS licensees. All but 100 of these licenses are held by educational institutions. Educational institutions are included in this analysis as small entities.¹⁸⁶ Thus, we estimate that at least 1,932 licensees are small businesses. Since 2007, Cable Television Distribution Services have been defined within the broad economic census category of Wired Telecommunications Carriers; that category is defined as follows: “This industry comprises establishments primarily engaged in operating and/or providing access to transmission facilities and infrastructure that they own and/or lease for the transmission of voice, data, text, sound, and video using wired telecommunications networks. Transmission facilities may be based on a single technology or a combination of technologies.” ¹⁸⁷ The SBA has developed a small business size standard for this category, which is: all such firms having 1,500 or fewer employees. To gauge small business prevalence for these cable services we must, however, use current census data that are based on the previous category of Cable and Other Program Distribution and its associated size standard; that size standard was: All such firms having $13.5 million or less in annual receipts.¹⁸⁸ According to Census Bureau data for 2002, there were a total of 1,191 firms in this previous category that operated for the entire year.¹⁸⁹ Of this total, 1,087 firms had annual receipts of under $10 million, and 43 firms had receipts of $10 million or more but less than $25 million.¹⁹⁰ Thus, the majority of these firms can be considered small.

¹⁸⁶ The term “small entity” within SBREFA applies to small organizations (nonprofits) and to small governmental jurisdictions (cities, counties, towns, townships, villages, school districts, and special districts with populations of less than 50,000). 5 U.S.C. 601(4)-(6). We do not collect annual revenue data on EBS licensees.

¹⁸⁷ U.S. Census Bureau, 2007 NAICS Definitions, “517110 Wired Telecommunications Carriers” (partial definition); http://www.census.gov/naics/2007/def/ND517110.HTM#N517110.

¹⁸⁸ 13 CFR 121.201, NAICS code 517110.

¹⁸⁹ U.S. Census Bureau, 2002 Economic Census, Subject Series: Information, Table 4, Receipts Size of Firms for the United States: 2002, NAICS code 517510 (issued November 2005).

¹⁹⁰ Id. An additional 61 firms had annual receipts of $25 million or more.

59. Television Broadcasting. This Economic Census category “comprises establishments primarily engaged in broadcasting images together with sound. These establishments operate television broadcasting studios and facilities for the programming and transmission of programs to the public.” ¹⁹¹ The SBA has created the following small business size standard for Television Broadcasting firms: those having $14 million or less in annual receipts.¹⁹² The Commission has estimated the number of licensed commercial television stations to be 1,379.¹⁹³ In addition, according to Commission staff review of the BIA Publications, Inc., Master Access Television Analyzer Database (BIA) on March 30, 2007, about 986 of an estimated 1,374 commercial television stations (or approximately 72 percent) had revenues of $13 million or less.¹⁹⁴ We therefore estimate that the majority of commercial television broadcasters are small entities.

¹⁹¹ U.S. Census Bureau, 2007 NAICS Definitions, “515120 Television Broadcasting” (partial definition); http://www.census.gov/naics/2007/def/ND515120.HTM#N515120.

¹⁹² 13 CFR 121.201, NAICS code 515120 (updated for inflation in 2008).

¹⁹³ See FCC News Release, “Broadcast Station Totals as of December 31, 2007,” dated March 18, 2008; http://www.fcc.gov/Daily_Releases/Daily_Business/2008/db0318/DOC-280836A1.pdf.

¹⁹⁴ We recognize that BIA's estimate differs slightly from the FCC total given supra.

60. We note, however, that in assessing whether a business concern qualifies as small under the above definition, business (control) affiliations ¹⁹⁵ must be included. Our estimate, therefore, likely overstates the number of small entities that might be affected by our action, because the revenue figure on which it is based does not include or aggregate revenues from affiliated companies. In addition, an element of the definition of “small business” is that the entity not be dominant in its field of operation. We are unable at this time to define or quantify the criteria that would establish whether a specific television station is dominant in its field of operation. Accordingly, the estimate of small businesses to which rules may apply does not exclude any television station from the definition of a small business on this basis and is therefore possibly over-inclusive to that extent.

¹⁹⁵ “[Business concerns] are affiliates of each other when one concern controls or has the power to control the other or a third party or parties controls or has the power to control both.” 13 CFR 21.103(a)(1).

61. In addition, the Commission has estimated the number of licensed noncommercial educational (NCE) television stations to be 380.¹⁹⁶ These stations are nonprofit, and therefore considered to be small entities.¹⁹⁷

¹⁹⁶ See FCC News Release, “Broadcast Station Totals as of December 31, 2007,” dated March 18, 2008; http://www.fcc.gov/Daily_Releases/Daily_Business/2008/db0318/DOC-280836A1.pdf.

¹⁹⁷ See generally 5 U.S.C. 601(4), (6).

62. In addition, there are also 2,295 low power television stations (LPTV).¹⁹⁸ Given the nature of this service, we will presume that all LPTV licensees qualify as small entities under the above SBA small business size standard.

¹⁹⁸ See FCC News Release, “Broadcast Station Totals as of December 31, 2007,” dated March 18, 2008; http://www.fcc.gov/Daily_Releases/Daily_Business/2008/db0318/DOC-280836A1.pdf.

63. Radio Broadcasting. This Economic Census category “comprises establishments primarily engaged in broadcasting aural programs by radio to the public. Programming may originate in their own studio, from an affiliated network, or from external sources.” ¹⁹⁹ The SBA has established a small business size standard for this category, which is: Such firms having $7 million or less in annual receipts.²⁰⁰ According to Commission staff review of BIA Publications, Inc.'s Master Access Radio Analyzer Database on March 31, 2005, about 10,840 (95%) of 11,410 commercial radio stations had revenues of $6 million or less. Therefore, the majority of such entities are small entities.

¹⁹⁹ U.S. Census Bureau, 2007 NAICS Definitions, “515112 Radio Stations”; http://www.census.gov/naics/2007/def/ND515112.HTM#N515112.

²⁰⁰ 13 CFR 121.201, NAICS code 515112 (updated for inflation in 2008).

64. We note, however, that in assessing whether a business concern qualifies as small under the above size standard, business affiliations must be included.²⁰¹ In addition, to be determined to be a “small business,” the entity may not be dominant in its field of operation.²⁰² We note that it is difficult at times to assess these criteria in the context of media entities, and our estimate of small businesses may therefore be over-inclusive.

²⁰¹ “Concerns and entities are affiliates of each other when one controls or has the power to control the other, or a third party or parties controls or has the power to control both. It does not matter whether control is exercised, so long as the power to control exists.” 13 CFR 121.103(a)(1) (an SBA regulation).

²⁰² 13 CFR 121.102(b) (an SBA regulation).

65. Auxiliary, Special Broadcast and Other Program Distribution Services. This service involves a variety of transmitters, generally used to relay broadcast programming to the public (through translator and booster stations) or within the program distribution chain (from a remote news gathering unit back to the station). The Commission has not developed a definition of small entities applicable to broadcast auxiliary licensees. The applicable definitions of small entities are those, noted previously, under the SBA rules applicable to radio broadcasting stations and television broadcasting stations.²⁰³

²⁰³ 13 CFR 121.201, NAICS codes 515112 and 515120.

66. The Commission estimates that there are approximately 5,618 FM translators and boosters.²⁰⁴ The Commission does not collect financial information on any broadcast facility, and the Department of Commerce does not collect financial information on these auxiliary broadcast facilities. We believe that most, if not all, of these auxiliary facilities could be classified as small businesses by themselves. We also recognize that most commercial translators and boosters are owned by a parent station which, in some cases, would be covered by the revenue definition of small business entity discussed above. These stations would likely have annual revenues that exceed the SBA maximum to be designated as a small business ($7.0 million for a radio station or $14.0 million for a TV station). Furthermore, they do not meet the Small Business Act's definition of a “small business concern” because they are not independently owned and operated.²⁰⁵

²⁰⁴ See supra note 242.

²⁰⁵ See 15 U.S.C. 632.

67. Cable Television Distribution Services. Since 2007, these services have been defined within the broad economic census category of Wired Telecommunications Carriers; that category is defined as follows: “This industry comprises establishments primarily engaged in operating and/or providing access to transmission facilities and infrastructure that they own and/or lease for the transmission of voice, data, text, sound, and video using wired telecommunications networks. Transmission facilities may be based on a single technology or a combination of technologies.” ²⁰⁶ The SBA has developed a small business size standard for this category, which is: All such firms having 1,500 or fewer employees. To gauge small business prevalence for these cable services we must, however, use current census data that are based on the previous category of Cable and Other Program Distribution and its associated size standard; that size standard was: All such firms having $13.5 million or less in annual receipts.²⁰⁷ According to Census Bureau data for 2002, there were a total of 1,191 firms in this previous category that operated for the entire year.²⁰⁸ Of this total, 1,087 firms had annual receipts of under $10 million, and 43 firms had receipts of $10 million or more but less than $25 million.²⁰⁹ Thus, the majority of these firms can be considered small.

²⁰⁶ U.S. Census Bureau, 2007 NAICS Definitions, “517110 Wired Telecommunications Carriers” (partial definition); http://www.census.gov/naics/2007/def/ND517110.HTM#N517110.

²⁰⁷ 13 CFR 121.201, NAICS code 517110.

²⁰⁸ U.S. Census Bureau, 2002 Economic Census, Subject Series: Information, Table 4, Receipts Size of Firms for the United States: 2002, NAICS code 517510 (issued November 2005).

²⁰⁹ Id. An additional 61 firms had annual receipts of $25 million or more.

68. Cable Companies and Systems. The Commission has also developed its own small business size standards, for the purpose of cable rate regulation. Under the Commission's rules, a “small cable company” is one serving 400,000 or fewer subscribers, nationwide.²¹⁰ Industry data indicate that, of 1,076 cable operators nationwide, all but eleven are small under this size standard.²¹¹ In addition, under the Commission's rules, a “small system” is a cable system serving 15,000 or fewer subscribers.²¹² Industry data indicate that, of 7,208 systems nationwide, 6,139 systems have under 10,000 subscribers, and an additional 379 systems have 10,000-19,999 subscribers.²¹³ Thus, under this second size standard, most cable systems are small.

²¹⁰ 47 CFR 76.901(e). The Commission determined that this size standard equates approximately to a size standard of $100 million or less in annual revenues. Implementation of Sections of the 1992 Cable Act: Rate Regulation, Sixth Report and Order and Eleventh Order on Reconsideration, 10 FCC Rcd 7393, 7408 (1995).

²¹¹ These data are derived from: R.R. Bowker, Broadcasting & Cable Yearbook 2006, “Top 25 Cable/Satellite Operators,” pages A-8 & C-2 (data current as of June 30, 2005); Warren Communications News, Television & Cable Factbook 2006, “Ownership of Cable Systems in the United States,” pages D-1805 to D-1857.

²¹² 47 CFR 76.901(c).

²¹³ Warren Communications News, Television & Cable Factbook 2006, “U.S. Cable Systems by Subscriber Size,” page F-2 (data current as of Oct. 2005). The data do not include 718 systems for which classifying data were not available.

69. Cable System Operators. The Communications Act of 1934, as amended, also contains a size standard for small cable system operators, which is “a cable operator that, directly or through an affiliate, serves in the aggregate fewer than 1 percent of all subscribers in the United States and is not affiliated with any entity or entities whose gross annual revenues in the aggregate exceed $250,000,000.” ²¹⁴ The Commission has determined that an operator serving fewer than 677,000 subscribers shall be deemed a small operator, if its annual revenues, when combined with the total annual revenues of all its affiliates, do not exceed $250 million in the aggregate.²¹⁵ Industry data indicate that, of 1,076 cable operators nationwide, all but ten are small under this size standard.²¹⁶ We note that the Commission neither requests nor collects information on whether cable system operators are affiliated with entities whose gross annual revenues exceed $250 million,²¹⁷ and therefore we are unable to estimate more accurately the number of cable system operators that would qualify as small under this size standard.

²¹⁴ 47 U.S.C. 543(m)(2); see 47 CFR 76.901(f) & nn. 1-3.

²¹⁵ 47 CFR 76.901(f); see Public Notice, FCC Announces New Subscriber Count for the Definition of Small Cable Operator, DA 01-158 (Cable Services Bureau, Jan. 24, 2001).

²¹⁶ These data are derived from: R.R. Bowker, Broadcasting & Cable Yearbook 2006, “Top 25 Cable/Satellite Operators,” pages A-8 & C-2 (data current as of June 30, 2005); Warren Communications News, Television & Cable Factbook 2006, “Ownership of Cable Systems in the United States,” pages D-1805 to D-1857.

²¹⁷ The Commission does receive such information on a case-by-case basis if a cable operator appeals a local franchise authority's finding that the operator does not qualify as a small cable operator pursuant to section 76.901(f) of the Commission's rules. See 47 CFR 76.909(b).

70. Open Video Systems. The open video system (OVS) framework was established in 1996, and is one of four statutorily recognized options for the provision of video programming services by local exchange carriers.²¹⁸ The OVS framework provides opportunities for the distribution of video programming other than through cable systems. Because OVS operators provide subscription services,²¹⁹ OVS falls within the SBA small business size standard covering cable services, which is “Wired Telecommunications Carriers.” ²²⁰ The SBA has developed a small business size standard for this category, which is: All such firms having 1,500 or fewer employees. To gauge small business prevalence for such services we must, however, use current census data that are based on the previous category of Cable and Other Program Distribution and its associated size standard; that size standard was: All such firms having $13.5 million or less in annual receipts.²²¹ According to Census Bureau data for 2002, there were a total of 1,191 firms in this previous category that operated for the entire year.²²² Of this total, 1,087 firms had annual receipts of under $10 million, and 43 firms had receipts of $10 million or more but less than $25 million.²²³ Thus, the majority of cable firms can be considered small. In addition, we note that the Commission has certified some OVS operators, with some now providing service.²²⁴ Broadband service providers (BSPs) are currently the only significant holders of OVS certifications or local OVS franchises.²²⁵ The Commission does not have financial or employment information regarding the entities authorized to provide OVS, some of which may not yet be operational. Thus, again, at least some of the OVS operators may qualify as small entities.

²¹⁸ 47 U.S.C. 571(a)(3)-(4). See Annual Assessment of the Status of Competition in the Market for the Delivery of Video Programming, Thirteenth Annual Report, 24 FCC Rcd 542, 606 paragraph 135 (2009) (“Thirteenth Annual Cable Competition Report”).

²¹⁹ See 47 U.S.C. 573.

²²⁰ U.S. Census Bureau, 2007 NAICS Definitions, “517110 Wired Telecommunications Carriers”; http://www.census.gov/naics/2007/def/ND517110.HTM#N517110.

²²¹ 13 CFR 121.201, NAICS code 517110.

²²² U.S. Census Bureau, 2002 Economic Census, Subject Series: Information, Table 4, Receipts Size of Firms for the United States: 2002, NAICS code 517510 (issued November 2005).

²²³ Id. An additional 61 firms had annual receipts of $25 million or more.

²²⁴ A list of OVS certifications may be found at http://www.fcc.gov/mb/ovs/csovscer.html.

²²⁵ See Thirteenth Annual Cable Competition Report, 24 FCC Rcd at 606-07 paragraph 135. BSPs are newer firms that are building state-of-the-art, facilities-based networks to provide video, voice, and data services over a single network.

71. Cable Television Relay Service. This service includes transmitters generally used to relay cable programming within cable television system distribution systems. This cable service is defined within the broad economic census category of Wired Telecommunications Carriers; that category is defined as follows: “This industry comprises establishments primarily engaged in operating and/or providing access to transmission facilities and infrastructure that they own and/or lease for the transmission of voice, data, text, sound, and video using wired telecommunications networks. Transmission facilities may be based on a single technology or a combination of technologies.” ²²⁶ The SBA has developed a small business size standard for this category, which is: All such firms having 1,500 or fewer employees. To gauge small business prevalence for cable services we must, however, use current census data that are based on the previous category of Cable and Other Program Distribution and its associated size standard; that size standard was: All such firms having $13.5 million or less in annual receipts.²²⁷ According to Census Bureau data for 2002, there were a total of 1,191 firms in this previous category that operated for the entire year.²²⁸ Of this total, 1,087 firms had annual receipts of under $10 million, and 43 firms had receipts of $10 million or more but less than $25 million.²²⁹ Thus, the majority of these firms can be considered small.

²²⁶ U.S. Census Bureau, 2007 NAICS Definitions, “517110 Wired Telecommunications Carriers” (partial definition); http://www.census.gov/naics/2007/def/ND517110.HTM#N517110.

²²⁷ 13 CFR 121.201, NAICS code 517110.

²²⁸ U.S. Census Bureau, 2002 Economic Census, Subject Series: Information, Table 4, Receipts Size of Firms for the United States: 2002, NAICS code 517510 (issued November 2005).

²²⁹ Id. An additional 61 firms had annual receipts of $25 million or more.

72. Multichannel Video Distribution and Data Service. MVDDS is a terrestrial fixed microwave service operating in the 12.2-12.7 GHz band. The Commission adopted criteria for defining three groups of small businesses for purposes of determining their eligibility for special provisions such as bidding credits. It defined a very small business as an entity with average annual gross revenues not exceeding $3 million for the preceding three years; a small business as an entity with average annual gross revenues not exceeding $15 million for the preceding three years; and an entrepreneur as an entity with average annual gross revenues not exceeding $40 million for the preceding three years.²³⁰ These definitions were approved by the SBA.²³¹ On January 27, 2004, the Commission completed an auction of 214 MVDDS licenses (Auction No. 53). In this auction, ten winning bidders won a total of 192 MVDDS licenses.²³² Eight of the ten winning bidders claimed small business status and won 144 of the licenses. The Commission also held an auction of MVDDS licenses on December 7, 2005 (Auction 63). Of the three winning bidders who won 22 licenses, two winning bidders, winning 21 of the licenses, claimed small business status.²³³

²³⁰ Amendment of Parts 2 and 25 of the Commission's Rules to Permit Operation of NGSO FSS Systems Co-Frequency with GSO and Terrestrial Systems in the Ku-Band Frequency Range; Amendment of the Commission's Rules to Authorize Subsidiary Terrestrial Use of the 12.2-12.7 GHz Band by Direct Broadcast Satellite Licensees and their Affiliates; and Applications of Broadwave USA, PDC Broadband Corporation, and Satellite Receivers, Ltd. to provide A Fixed Service in the 12.2-12.7 GHz Band, ET Docket No. 98-206, Memorandum Opinion and Order and Second Report and Order, 17 FCC Rcd 9614, 9711, paragraph 252 (2002).

²³¹ See Letter from Hector V. Barreto, Administrator, U.S. Small Business Administration, to Margaret W. Wiener, Chief, Auctions and Industry Analysis Division, WTB, FCC (Feb.13, 2002).

²³² See “Multichannel Video Distribution and Data Service Auction Closes,” Public Notice, 19 FCC Rcd 1834 (2004).

²³³ See “Auction of Multichannel Video Distribution and Data Service Licenses Closes; Winning Bidders Announced for Auction No. 63,” Public Notice, 20 FCC Rcd 19807 (2005).

73. Amateur Radio Service. These licensees are held by individuals in a noncommercial capacity; these licensees are not small entities.

74. Aviation and Marine Services. Small businesses in the aviation and marine radio services use a very high frequency (VHF) marine or aircraft radio and, as appropriate, an emergency position-indicating radio beacon (and/or radar) or an emergency locator transmitter. The Commission has not developed a small business size standard specifically applicable to these small businesses. For purposes of this analysis, the Commission uses the SBA small business size standard for the category Wireless Telecommunications Carriers (except Satellite), which is 1,500 or fewer employees.²³⁴ Most applicants for recreational licenses are individuals. Approximately 581,000 ship station licensees and 131,000 aircraft station licensees operate domestically and are not subject to the radio carriage requirements of any statute or treaty. For purposes of our evaluations in this analysis, we estimate that there are up to approximately 712,000 licensees that are small businesses (or individuals) under the SBA standard. In addition, between December 3, 1998 and December 14, 1998, the Commission held an auction of 42 VHF Public Coast licenses in the 157.1875-157.4500 MHz (ship transmit) and 161.775-162.0125 MHz (coast transmit) bands. For purposes of the auction, the Commission defined a “small” business as an entity that, together with controlling interests and affiliates, has average gross revenues for the preceding three years not to exceed $15 million dollars. In addition, a “very small” business is one that, together with controlling interests and affiliates, has average gross revenues for the preceding three years not to exceed $3 million dollars.²³⁵ There are approximately 10,672 licensees in the Marine Coast Service, and the Commission estimates that almost all of them qualify as “small” businesses under the above special small business size standards.

²³⁴ 13 CFR 121.201, NAICS code 517210.

²³⁵ Amendment of the Commission's Rules Concerning Maritime Communications, Third Report and Order and Memorandum Opinion and Order, 13 FCC Rcd 19853 (1998).

75. Personal Radio Services. Personal radio services provide short-range, low power radio for personal communications, radio signaling, and business communications not provided for in other services. The Personal Radio Services include spectrum licensed under Part 95 of our rules.²³⁶ These services include Citizen Band Radio Service (CB), General Mobile Radio Service (GMRS), Radio Control Radio Service (R/C), Family Radio Service (FRS), Wireless Medical Telemetry Service (WMTS), Medical Implant Communications Service (MICS), Low Power Radio Service (LPRS), and Multi-Use Radio Service (MURS).²³⁷ There are a variety of methods used to license the spectrum in these rule parts, from licensing by rule, to conditioning operation on successful completion of a required test, to site-based licensing, to geographic area licensing. Under the RFA, the Commission is required to make a determination of which small entities are directly affected by the rules being proposed. Since all such entities are wireless, we apply the definition of Wireless Telecommunications Carriers (except Satellite), pursuant to which a small entity is defined as employing 1,500 or fewer persons.²³⁸ Many of the licensees in these services are individuals, and thus are not small entities. In addition, due to the mostly unlicensed and shared nature of the spectrum utilized in many of these services, the Commission lacks direct information upon which to base an estimation of the number of small entities under an SBA definition that might be directly affected by the proposed rules.

²³⁶ 47 CFR Part 90.

²³⁷ The Citizens Band Radio Service, General Mobile Radio Service, Radio Control Radio Service, Family Radio Service, Wireless Medical Telemetry Service, Medical Implant Communications Service, Low Power Radio Service, and Multi-Use Radio Service are governed by Subpart D, Subpart A, Subpart C, Subpart B, Subpart H, Subpart I, Subpart G, and Subpart J, respectively, of Part 95 of the Commission's rules. See generally 47 CFR Part 95.

²³⁸ 13 CFR 121.201, NAICS Code 517210.

76. Public Safety Radio Services. Public Safety radio services include police, fire, local government, forestry conservation, highway maintenance, and emergency medical services.²³⁹ There are a total of approximately 127,540 licensees in these services. Governmental entities ²⁴⁰ as well as private businesses comprise the licensees for these services. All governmental entities with populations of less than 50,000 fall within the definition of a small entity.²⁴¹

²³⁹ With the exception of the special emergency service, these services are governed by Subpart B of part 90 of the Commission's rules, 47 CFR 90.15-90.27. The police service includes approximately 27,000 licensees that serve state, county, and municipal enforcement through telephony (voice), telegraphy (code) and teletype and facsimile (printed material). The fire radio service includes approximately 23,000 licensees comprised of private volunteer or professional fire companies as well as units under governmental control. The local government service is presently comprised of approximately 41,000 licensees that are state, county, or municipal entities that use the radio for official purposes not covered by other public safety services. There are approximately 7,000 licensees within the forestry service which is comprised of licensees from state departments of conservation and private forest organizations who set up communications networks among fire lookout towers and ground crews. The approximately 9,000 state and local governments are licensed to provide highway maintenance service and emergency and routine communications to aid other public safety services to keep main roads safe for vehicular traffic. The approximately 1,000 licensees in the Emergency Medical Radio Service (EMRS) use the 39 channels allocated to this service for emergency medical service communications related to the delivery of emergency medical treatment. 47 CFR 90.15-90.27. The approximately 20,000 licensees in the special emergency service include medical services, rescue organizations, veterinarians, handicapped persons, disaster relief organizations, school buses, beach patrols, establishments in isolated areas, communications standby facilities, and emergency repair of public communications facilities. 47 CFR 90.33-90.55.

²⁴⁰ 47 CFR 1.1162.

²⁴¹ 5 U.S.C. 601(5).

IV. Description of Projected Reporting, Recordkeeping and Other Compliance Requirements

77. With certain exceptions, the Commission's Schedule of Regulatory Fees applies to all Commission licensees and regulatees. Most licensees will be required to count the number of licenses or call signs authorized, complete and submit an FCC Form 159 Remittance Advice, and pay a regulatory fee based on the number of licenses or call signs.²⁴² Interstate telephone service providers must compute their annual regulatory fee based on their interstate and international end-user revenue using information they already supply to the Commission in compliance with the Form 499-A, Telecommunications Reporting Worksheet, and they must complete and submit the FCC Form 159. Compliance with the fee schedule will require some licensees to tabulate the number of units (e.g., cellular telephones, pagers, cable TV subscribers) they have in service, and complete and submit an FCC Form 159. Licensees ordinarily will keep a list of the number of units they have in service as part of their normal business practices. No additional outside professional skills are required to complete the FCC Form 159, and it can be completed by the employees responsible for an entity's business records.

²⁴² See 47 CFR 1.1162 for the general exemptions from regulatory fees. E.g., Amateur radio licensees (except applicants for vanity call signs) and operators in other non-licensed services (e.g., Personal Radio, part 15, ship and aircraft). Governments and non-profit (exempt under section 501(c) of the Internal Revenue Code) entities are exempt from payment of regulatory fees and need not submit payment. Non-commercial educational broadcast licensees are exempt from regulatory fees as are licensees of auxiliary broadcast services such as low power auxiliary stations, television auxiliary service stations, remote pickup stations and aural broadcast auxiliary stations where such licenses are used in conjunction with commonly owned non-commercial educational stations. Emergency Alert System licenses for auxiliary service facilities are also exempt as are instructional television fixed service licensees. Regulatory fees are automatically waived for the licensee of any translator station that: (1) Is not licensed to, in whole or in part, and does not have common ownership with, the licensee of a commercial broadcast station; (2) does not derive income from advertising; and (3) is dependent on subscriptions or contributions from members of the community served for support. Receive only earth station permittees are exempt from payment of regulatory fees. A regulatee will be relieved of its fee payment requirement if its total fee due, including all categories of fees for which payment is due by the entity, amounts to less than $10.

78. As discussed previously in the accompanying Order at paragraphs 19 through 23, the Commission has concluded that beginning in the FY 2009 regulatory fee cycle, licensees filing their annual regulatory fee payments must begin the process by entering the Commission's Fee Filer system with a valid FRN and password. In some instances, it will be necessary to use a specific FRN and password that is linked to a particular regulatory fee bill. Going forward, the submission of hardcopy Form 159 documents will not be permitted for making a regulatory fee payment. By requiring licensees to use Fee Filer to begin the regulatory fee payment process, errors resulting from illegible handwriting on hardcopy Form 159's will be reduced, and we will create an electronic record of licensee payment attributes that are more easily traced than those payments that are simply mailed in with a hardcopy Form 159.

79. Licensees and regulatees are advised that failure to submit the required regulatory fee in a timely manner will subject the licensee or regulatee to a late payment penalty of 25 percent in addition to the required fee.²⁴³ If payment is not received, new or pending applications may be dismissed, and existing authorizations may be subject to rescission.²⁴⁴ Further, in accordance with the DCIA, federal agencies may bar a person or entity from obtaining a federal loan or loan insurance guarantee if that person or entity fails to pay a delinquent debt owed to any federal agency.²⁴⁵ Nonpayment of regulatory fees is a debt owed the United States pursuant to 31 U.S.C. 3711 et seq., and the DCIA. Appropriate enforcement measures as well as administrative and judicial remedies, may be exercised by the Commission. Debts owed to the Commission may result in a person or entity being denied a federal loan or loan guarantee pending before another federal agency until such obligations are paid.²⁴⁶

²⁴³ 47 CFR 1.1164.

²⁴⁴ 47 CFR 1.1164(c).

²⁴⁵ Public Law 104-134, 110 Stat. 1321 (1996).

²⁴⁶ 31 U.S.C. 7701(c)(2)(B).

80. The Commission's rules currently provide for relief in exceptional circumstances. Persons or entities may request a waiver, reduction or deferment of payment of the regulatory fee.²⁴⁷ However, timely submission of the required regulatory fee must accompany requests for waivers or reductions. This will avoid any late payment penalty if the request is denied. The fee will be refunded if the request is granted. In exceptional and compelling instances (where payment of the regulatory fee along with the waiver or reduction request could result in reduction of service to a community or other financial hardship to the licensee), the Commission will defer payment in response to a request filed with the appropriate supporting documentation.

²⁴⁷ 47 CFR 1.1166.

V. Steps Taken To Minimize Significant Economic Impact on Small Entities, and Significant Alternatives Considered

81. The RFA requires an agency to describe any significant alternatives that it has considered in reaching its approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.²⁴⁸ In the NPRM, we sought comment on alternatives that might simplify our fee procedures or otherwise benefit filers, including small entities, while remaining consistent with our statutory responsibilities in this proceeding. We received no comments specifically in response to the IRFA.

²⁴⁸ 5 U.S.C. 603.

82. Several categories of licensees and regulatees are exempt from payment of regulatory fees. Also, waiver procedures provide regulatees, including small entity regulatees, relief in exceptional circumstances. We note that small entities should be assisted by our implementation of the Fee Filer program, and that we have continued our practice of exempting fees whose total sum owed is less than $10.00.

VI. Report to Congress

83. The Commission will send a copy of this Report and Order, including this FRFA, in a report to be sent to Congress and the Government Accountability Office pursuant to the Congressional Review Act.²⁴⁹. In addition, the Commission will send a copy of this Report and Order, including the FRFA, to the Chief Counsel for Advocacy of the Small Business Administration. A copy of this Report and Order and FRFA (or summaries thereof) will also be published in the Federal Register.²⁵⁰

²⁴⁹ See 5 U.S.C. 801(a)(1)(A). The Congressional Review Act is contained in Title II, section 251, of the CWAAA; see Public Law 104-121, Title II, section 251, 110 Stat. 868.

²⁵⁰ See 5 U.S.C. 604(b).

Appendix G

Proposed Letter to Submarine Cable Operators

[insert address of submarine cable operator]

Re:/Regulatory Fees for Fiscal Year [insert year]

Our annual regulatory fee assessment for submarine cable operators is based on the total capacity for the submarine cable system. For this reason, we require submarine cable operators to advise us of the appropriate category for determining regulatory fees. Please indicate below the correct category and return this letter to us by February 15, 20___.

Submarine cable systems (capacity as of December 31) | Please check the appropriate category
<2.5 Gbps. |
2.5 Gbps or greater, but less than 5 Gbps. |
5 Gbps or greater, but less than 10 Gbps. |
10 Gbps or greater, but less than 20 Gbps. |
20 Gbps or greater. |

Thank you for your assistance in this matter.

Certification Statement

I _____ certify under penalty of perjury that the foregoing and supporting information is true and correct to the best of my knowledge, information and belief.

Signature _____ Date _____

Appendix H

FY 2008 Schedule of Regulatory Fees
Fee category | Annual regulatory fee (U.S. $'s)
PLMRS (per license) (Exclusive Use) (47 CFR part 90) | 40
Microwave (per license) (47 CFR part 101) | 40
218-219 MHz (Formerly Interactive Video Data Service) (per license) (47 CFR part 95) | 60
Marine (Ship) (per station) (47 CFR part 80) | 10
Marine (Coast) (per license) (47 CFR part 80) | 35
General Mobile Radio Service (per license) (47 CFR part 95) | 5
Rural Radio (47 CFR part 22) (previously listed under the Land Mobile category) | 20
PLMRS (Shared Use) (per license) (47 CFR part 90) | 20
Aviation (Aircraft) (per station) (47 CFR part 87) | 5
Aviation (Ground) (per license) (47 CFR part 87) | 10
Amateur Vanity Call Signs (per call sign) (47 CFR part 97) | 1.23
CMRS Mobile/Cellular Services (per unit) (47 CFR parts 20, 22, 24, 27, 80 and 90) | .17
CMRS Messaging Services (per unit) (47 CFR parts 20, 22, 24 and 90) | .08
Broadband Radio Service (formerly MMDS/MDS) (per license sign) (47 CFR part 21) | 295
Local Multipoint Distribution Service (per call sign) (47 CFR, part 101) | 295
AM Radio Construction Permits | 415
FM Radio Construction Permits | 600
TV (47 CFR part 73) VHF Commercial:
Markets 1-10 | 71,050
Markets 11-25 | 53,525
Markets 26-50 | 33,525
Markets 51-100 | 21,025
Remaining Markets | 5,600
Construction Permits | 5,600
TV (47 CFR part 73) UHF Commercial:
Markets 1-10 | 21,225
Markets 11-25 | 19,475
Markets 26-50 | 11,900
Markets 51-100 | 6,800
Remaining Markets | 1,800
Construction Permits | 1,800
Satellite Television Stations (All Markets) | 1,175
Construction Permits—Satellite Television Stations | 595
Low Power TV, TV/FM Translators & Boosters (47 CFR part 74) | 365
Broadcast Auxiliary (47 CFR part 74) | 10
CARS (47 CFR part 78) | 205
Cable Television Systems (per subscriber) (47 CFR part 76) | .80
Interstate Telecommunication Service Providers (per revenue dollar) | .00314
Earth Stations (47 CFR part 25) | 195
Space Stations (per operational station in geostationary orbit) (47 CFR part 25) also includes Direct Broadcast Satellite Service (per operational station) (47 CFR part 100) | 119,300
Space Stations (per operational system in non-geostationary orbit) (47 CFR part 25) | 125,750
International Bearer Circuits (per active 64KB circuit) | .93
International Public Fixed (per call sign) (47 CFR part 23) | 2,025
International (HF) Broadcast (47 CFR part 73) | 860

FY 2008 Schedule of Regulatory Fees (Continued)
FY 2008 Radio Station Regulatory Fees: Population served | FY 2008 Radio Station Regulatory Fees: AM Class A | FY 2008 Radio Station Regulatory Fees: AM Class B | FY 2008 Radio Station Regulatory Fees: AM Class C | FY 2008 Radio Station Regulatory Fees: AM Class D | FY 2008 Radio Station Regulatory Fees: FM Classes A, B1 & C3 | FY 2008 Radio Station Regulatory Fees: FM Classes B, C, C0, C1 & C2
< =25,000 | $650 | $500 | $450 | $525 | $600 | $775
25,001-75,000 | 1,325 | 1,025 | 650 | 775 | 1,225 | 1,375
75,001-150,000 | 1,975 | 1,275 | 875 | 1,300 | 1,675 | 2,550
150,001-500,000 | 2,975 | 2,175 | 1,325 | 1,550 | 2,600 | 3,325
500,001-1,200,000 | 4,300 | 3,325 | 2,200 | 2,575 | 4,125 | 4,900
1,200,001-3,000,000 | 6,600 | 5,100 | 3,300 | 4,125 | 6,700 | 7,850
> 3,000,000 | 7,925 | 6,125 | 4,175 | 5,150 | 8,550 | 10,200

[FR Doc. E9-19104 Filed 8-10-09; 8:45 am]

BILLING CODE 6712-01-P